DEPARTMENT OF HOUSING AND URBAN DEVELOPMENT

[Docket No. FR 4848-N-01]

Homeless Management Information Systems (HMIS) Data and Technical Standards Notice

AGENCY: Office of the Assistant Secretary for Community Planning and Development, HUD.

ACTION: Notice.

SUMMARY: This notice states the intent of HUD to implement Homeless Management Information Systems (HMIS).

DATES: Comment Due Date: September 22, 2003.

ADDRESSES: Interested persons are invited to submit comments regarding this notice to Michael Roanhouse, Office of Special Needs Assistance Programs, Office of the Assistant Secretary for Community Planning and Development, Room 7262, Department of Housing and Urban Development, 451 Seventh Street, SW., Washington, DC 20410-7000. Comments should refer to the above docket number and title.

FOR FURTHER INFORMATION CONTACT: Michael Roanhouse, Office of Special Needs Assistance Programs, Office of the Assistant Secretary for Community Planning and Development, Room 7262, Department of Housing and Urban Development, 451 Seventh Street, SW., Washington, DC 20410-7000; telephone (202) 708-1226, ext. 4482 (this is not a toll-free number). Hearing- or speech-impaired individuals may access this number by calling the toll-free Federal Information Relay Service at 1-800-877-8339.

SUPPLEMENTARY INFORMATION:

1. Introduction

This notice sets forth the Department's intention to implement Homeless Management Information Systems (HMIS). An HMIS is a computerized data collection application designed to capture client-level information over time on the characteristics and service needs of homeless persons. This notice presents background information on Congressional direction on improving homeless data collection and analysis at the local and national levels and specific statutorily based programmatic and planning requirements for addressing homeless needs. The notice also describes the benefits of developing an HMIS for: Homeless persons; local homeless assistance providers; local bodies that plan for and coordinate homeless services, known as Continuums of Care (CoC); and national policy makers. The notice provides detailed guidance on the development of data and technical standards that will allow local CoC to generate consistent reports so that the characteristics of homeless populations across the United States can be determined. The notice also describes how data are to be collected and safeguarded.

This notice is being published as a draft to permit CoC planning bodies, homeless service providers, local and state governments, advocates, and homeless clients an opportunity to review and comment on the proposed standards. The next two sections lay out Congressional direction to HUD on HMIS specifically and then on homelessness-related data collection generally.

It has been determined in concert with the Office of Management and Budget (OMB) that the information collection implicit in this notice requires OMB clearance. For purposes of the OMB clearance, this notice will serve as the 60-day Federal Register Notice under the Paperwork Reduction Act of 1995, as amended. The final report based on the public comments received on this draft version will include an estimate of burden for all potential users of the Notice. As an interim step, this draft version sets out below the existing HUD information collection requirements that HMIS will support when fully operational in American communities and the proposed paperwork burden already submitted to OMB for each:

Information collection* | Annual burden hours | Support entire collection | Support part of collection
Annual Performance Report (Competitive Programs) | 200,000 | X |
Application/Competitive Homeless Programs | 203,280 |  | X
Application/HOPWA | 28,625 |  | X
Consolidated Plan | 549,925 |  | X

Paperwork Reduction Act

The information collection requirements in this notice have been approved by the Office of Management and Budget (OMB) and assigned OMB control numbers 2506-0145, 2106-0112, 2506-0133, and 2506-0117, respectively. In accordance with the Paperwork Reduction Act of 1995 U.S.C. (44 U.S.C. 3501-3520), an agency may not conduct or sponsor, and a person is not required to respond to, a collection of information unless the collection displays a valid control number.

1.1. Congressional Direction on Homeless Management Information Systems

Expressions of Congressional concern for better homeless data collection and analysis at both the local and national levels has resulted in Congressional direction in conference and committee reports over the past several years. The Omnibus Appropriations Act of 2003 (Pub. L. 108-7, approved February 20, 2003), provides money to HUD to implement these responsibilities. The Act appropriated $1,225,000,000 to HUD for Homeless Assistance Grants and specifically provided “[t]hat $11,000,000 of the funds appropriated under this heading shall be available for the national homeless data analysis project.” The Conference Report provided guidance as to some of the steps that HUD should take in implementing this project. Specifically, the report stated as follows:

The conferees are concerned that the Department is not taking the proper steps to determine the extent to which HUD's homeless assistance programs are meeting the needs of chronically homeless people. Therefore, HUD is directed to begin collecting data on the percentage and number of beds and supportive services programs that are serving people who are chronically disabled and/or chronically homeless.

The conferees reiterate the direction and reporting requirement included in the Senate report regarding the collection and analysis of data to assess the effectiveness of the homeless system, and direct that such report also include HUD's timeline for finalizing data requirements for the Homeless Management Information Systems.

The Senate Report referenced above states that:

The Committee remains supportive of the Department's ongoing work on data collection and analysis within the homeless programs. HUD should continue its collaborative efforts with local jurisdictions to collect an array of data on homelessness in order to analyze patterns of use of assistance, including how people enter and exit the homeless assistance system, and to assess the effectiveness of the homeless assistance system. The Committee directs HUD to take the lead in working with communities toward this end, and to analyze jurisdictional data within one year. The Committee directs HUD to report on the progress of this data collection and analysis effort by no later than May 12, 2003. The Conference Report (H.R. Report 106-988) for Fiscal Year (FY) 2001 HUD.

Appropriations Act (Pub. L. 106-377, approved October 27, 2000), stated:

The conferees reiterate and endorse language included in the Senate report regarding the need for data and analysis on the extent of homelessness and the effectiveness of McKinney Act programs * * *. The conferees concur with the importance of developing unduplicated counts of the homeless at the local level, as well as taking whatever steps are possible to draw inferences from this data about the extent and nature of homelessness in the nation as a whole.

Likewise, the conferees agree that local jurisdictions should be collecting an array of data on homelessness in order to prevent duplicate counting of homeless persons, and to analyze their patterns of use of assistance, including how they enter and exit the homeless assistance system and the effectiveness of the systems. HUD is directed to take the lead in working with communities toward this end, and to analyze jurisdictional data within three years. Implementation and operation of Management Information Systems (MIS), and collection and analysis of MIS data, have been made eligible uses of Supportive Housing Program funds. The conferees direct HUD to report to the Committees within six months after the date of enactment of this Act on its strategy for achieving this goal, including details on financing, implementation, and maintaining the effort.

Congress directed HUD to take the lead in requiring every jurisdiction to have unduplicated client-level data within three years. The reasons for the emphasis and the specific directives on encouraging these systems were articulated in FY 2001 Senate Report 106-410:

The Committee believes that HUD must collect data on the extent of homelessness in America as well as the effectiveness of the McKinney homeless assistance programs in addressing this condition. These programs have been in existence for some 15 years and there has never been an overall review or comprehensive analysis on the extent of homelessness or how to address it. The Committee believes that it is essential to develop an unduplicated count of homeless people, and an analysis of their patterns of use of assistance (HUD McKinney homeless assistance as well as other assistance both targeted and not targeted to homeless people), including how they enter and exit the homeless assistance system and the effectiveness of assistance.

Previously, in the FY 1999 HUD Appropriations Act, Congress had directed HUD to collect data from a representative sample of existing local HMIS. Specifically, House Report 105-610 states that HUD should:

* * * collect, at a minimum, the following data: The unduplicated count of clients served; client characteristics such as age, race, disability status, units [days] and type of housing received (shelter, transitional, permanent); and services rendered. Outcome information such as housing stability, income, and health status should be collected as well.

In the FY 2001 HUD appropriations process, Senate Report 106-410 directed HUD to build on its earlier preliminary work with communities with an advanced HMIS and continue assessing data from these communities:

* * * to continue on an annual basis to provide a report on a nationally representative sample of jurisdictions whose local MIS data can be aggregated yearly to document the change in demographics of homelessness, demand for homeless assistance, to identify patterns in utilization of assistance, and to demonstrate the effectiveness of assistance.

* * * The Committee instructs HUD to use these funds to contract with experienced academic institutions to analyze data and report to the agency, jurisdictions, providers, and the Committee on findings.

1.2. Statutory Direction to HUD and Other Federal Agencies on Homeless Data Collection

Section 1.1 outlined Congressional direction relating to Homeless Management Information Systems—a subset of the more general Congressional mandates for homeless data collection. HUD, other federal agencies, and the Interagency Council on the Homeless are required under various statutory authorities and Congressional direction to collect extensive information about the nature and extent of homelessness. In addition, individual programs authorized under the McKinney-Vento Homeless Assistance Act (42 U.S.C. 11301 et seq.) require the assessment of homeless needs, the provision of services to address those needs, and reporting on the outcomes of federal assistance in helping homeless people to become more independent. The major Congressional imperatives in HUD's McKinney-Vento Act programs are:

• Assessing the service needs of homeless persons;

• Ensuring that services are directed to meeting those needs;

• Assessing the outcomes of the services in nurturing efforts by homeless persons to become more self-sufficient; and

• Reporting to Congress on the characteristics and effectiveness of federal efforts to address homelessness.

Both individually and as a whole, these provisions provide statutory imperatives for collecting data on homeless individuals and their needs. This section progresses from the most general of the statutory authorities to the most specific programmatic authorities.

Interagency Council on the Homeless

The McKinney-Vento Homeless Assistance Act directs the Interagency Council on the Homeless (ICH) to undertake a number of tasks on interagency coordination, evaluation, and reporting that mandate the collection and dissemination of information on homeless individuals and their needs:

(a) Duties.

The Council shall—

(1) Review all federal activities and programs to assist homeless individuals;

(2) Take such actions as may be necessary to reduce duplication among programs and activities by federal agencies to assist homeless individuals;

(3) Monitor, evaluate, and recommend improvements in programs and activities to assist homeless individuals conducted by federal agencies, state and local governments, and private voluntary organizations;

* * * * *

(5) Collect and disseminate information relating to homeless individuals;

(6) Prepare the annual reports required in subsection (c)(2) of this section; (Section 203(a), McKinney-Vento Homeless Assistance Act).

Each federal agency is required to report to the Council a description of each program to assist homeless individuals and the number of homeless individuals served by the program, impediments to the use of the program by homeless individuals and to obtain services and benefits and efforts by the agency to increase homeless assistance services. The Council, in turn, is required to submit an annual report to the President and Congress that:

(A) Assesses the nature and extent of the problems relating to homelessness and the needs of homeless individuals;

(B) Provides a comprehensive and detailed description of the activities and accomplishments of the Federal Government in resolving the problems and meeting the needs assessed pursuant to subparagraph (A); (Section 203(a), McKinney-Vento Homeless Assistance Act)

In the following excerpt from the 2001 Senate Report on the HUD Appropriations Act, at page 53, Congress further directed the revitalized Council to assess how mainstream programs can prevent homelessness.

The committee also recognizes that homelessness cannot be ended by homeless assistance providers alone—it requires the involvement of a range of federal programs. Accordingly it has included $500,000 for the staffing of the Interagency Council on the Homeless. It instructs the Council specifically to require HUD, HHS, Labor, and VA to quantify the number of their program participants who become homeless, to address ways in which mainstream programs can prevent homelessness among those they serve, and to describe specifically how they provide assistance to people who are homeless * * *

Comprehensive Housing Affordability Strategy/Consolidated Plan

Every jurisdiction that receives funding from certain HUD programs (HOME, Community Development Block Grant, Housing Opportunities for Persons with AIDS, Emergency Shelter Grants) must submit a comprehensive housing strategy that includes a section dealing with homeless needs. Every jurisdiction is required to:

describe the nature and extent of homelessness, including rural homelessness, within the jurisdiction, providing an estimate of the special needs of various categories of persons who are homeless or threatened with homelessness, including tabular presentation of such information; and a description of the jurisdiction's strategy for (A) helping low-income families avoid becoming homeless; (B) addressing the emergency shelter and transitional housing needs of homeless persons (including a brief inventory of facilities and services that meet such needs within that jurisdiction); and (C) helping homeless persons make the transition to permanent housing and independent living. (Section 105(a)(2), Cranston-Gonzalez National Affordable Housing Act (42 U. S. C. 12701 et seq.)

The implementing regulations and administrative directions detail how the 50 States, Puerto Rico, the territories, and over 1000 metropolitan cities and urban counties present narratives and data tables on homeless needs, current services, and the plans to address and prevent homelessness.

HUD'S McKinney-Vento Act Program Requirements

The McKinney-Vento Act contains a consistent philosophy and an accompanying set of statutory mandates concerning the framework for assessing homeless needs and addressing them with appropriate services. The McKinney-Vento Act also recognizes the importance of ensuring confidentiality in recordkeeping and public disclosure of information concerning homeless persons seeking domestic violence shelter and services. In addition, all of HUD's McKinney-Vento Act assistance must be consistent with the local jurisdiction's Consolidated Plan.

Emergency Shelter Grant (ESG) Program

Each governmental and nonprofit recipient of Emergency Shelter Grant (ESG) funds is required to certify to HUD that it will undertake certain responsibilities regarding the provision of services, including that:

* * * * *

(3) It will assist homeless individuals in obtaining—

(A) Appropriate supportive services, including permanent housing, medical and mental health treatment, counseling, supervision, and other services essential for achieving independent living; and

(B) Other federal, state, local, and private assistance available for such individuals;

* * * * *

(5) It will develop and implement procedures to ensure the confidentiality of records pertaining to any individual provided family violence prevention or treatment services under any project assisted under this subtitle and that the address or location of any family violence shelter project assisted under this subtitle will, except with written authorization of the person or persons responsible for the operation of such shelter, not be made public;

(6) activities undertaken by the recipient with assistance under this subtitle are consistent with any housing strategy submitted by the grantee in accordance with Section 105 of the Cranston-Gonzalez National Affordable Housing Act (Sections 415(c)(3), (5) and (6), McKinney-Vento Homeless Assistance Act).

Supportive Housing Program

The Supportive Housing Program (SHP) funds transitional and permanent supportive housing and supportive services only projects that require grant recipients to collect specific information from clients concerning their qualification for services, their service needs, and progress toward assisting clients to independent living. HUD requires projects to report on the number and characteristics of clients served and their outcomes.

The statute provides that—

(a) IN GENERAL—To the extent practicable, each project shall provide supportive services for residents of the project and homeless persons using the project, which may be designed by the recipient or participants.

(b) REQUIREMENTS—Supportive services provided in connection with a project shall address the special needs of individuals (such as homeless persons with disabilities and homeless families with children) intended to be served by a project (Section 425 (a) and (b), McKinney-Vento Homeless Assistance Act).

The McKinney-Vento Act requires every project in the Supportive Housing Program to conduct an on-going assessment of client needs for services and their availability for the client. This information is necessary to assess the progress of the project in moving clients to independent living and to report to HUD. In addition, special protections on confidentiality of recordkeeping involving persons provided domestic violence services are specified.

Section 426 of the McKinney-Vento Homeless Assistance Act provides that—

(c) REQUIRED AGREEMENTS—The Secretary may not provide assistance for any project under this subtitle unless the applicant agrees—

(1) To operate the proposed project in accordance with the provisions of this subtitle;

(2) To conduct an ongoing assessment of the supportive services required by homeless individuals served by the project and the availability of such services to such individuals;

(3) To provide such residential supervision as the Secretary determines is necessary to facilitate the adequate provision of supportive services to the residents and users of the project;

(4) To monitor and report to the Secretary on the progress of the project;

(5) To develop and implement procedures to ensure (A) the confidentiality of records pertaining to any individual provided family violence prevention or treatment services through any project assisted through this subtitle, and (B) that the address or location of any family violence shelter project assisted under this subtitle will not be made public, except with written authorization of the person or persons responsible for the operation of such project;

* * * * *

(7) To comply with such other terms and conditions as the Secretary may establish to carry out this subtitle in an effective and efficient manner.

Shelter Plus Care Program

The Shelter Plus Care (SPC) Program funds tenant-, sponsor-, and project-based rental assistance and rental assistance in connection with moderate rehabilitation for single room occupancy units in conjunction with supportive services funded from other sources for homeless persons with disabilities. Specific information is required to establish both the initial disability status of the client to enter the program and to ensure that appropriate supportive services are provided during the full term of the program to address the needs of the client and to meet the match requirement of the program.

* * * * *

Section 454(b) of the McKinney-Vento Homeless Assistance Act provides in part that—

(b) MINIMUM CONTENTS—The Secretary shall require that an application identify the need for the assistance in the community to be served and shall contain at a minimum—

* * * * *

(2) A description of the size and characteristics of the population of eligible persons;

* * * * *

(4) The identity of the proposed service provider or providers * * *;

(5) A description of the supportive services that the applicant proposes to assure will be available for eligible persons;

(6) A description of the resources that are expected to be made available to provide the supportive services required by section 453;

(7) A description of the mechanisms for developing a housing and supportive services plan for each person and for monitoring each person's progress in meeting that plan * * *

The McKinney-Vento Act also requires recipients to provide for ongoing client assessments and provision of needed services. Section 456 states that the Secretary may not approve assistance under this subtitle unless the applicant agrees—

(1) To operate the proposed program in accordance with the provisions of this subtitle;

(2) To conduct an ongoing assessment of the housing assistance and supportive services required by the participants in the program;

(3) To assure the adequate provision of supportive services to the participants in the program.

1.3 The Vision and the Development of a Local HMIS

The development of a local HMIS is about: (1) Bringing the power of computer technology to the day-to-day operations of individual service providers; (2) knitting together service providers in a more coordinated and effective service delivery system for the benefit of homeless clients; and (3) obtaining and reporting critical aggregate information about the characteristics and service needs of homeless persons. While some sophisticated service providers have developed in-house management information systems using technology of the time, many providers have not been able or willing to do so. Even those with working systems have not always been able to keep up with the latest technology. A number of communities have developed computer systems to manage large government programs (e.g., New York, Philadelphia). Others have pioneered systems linking decentralized service providers around a centralized bed-registry (St. Louis) or other services, such as emergency utility assistance (Kansas City) or an information and referral system. In the mid-1990s, HUD and HHS supported a comprehensive planning effort to develop comprehensive intake and assessment software. While the Automated National Client-specific Homeless services Recording (ANCHoR) software developed as a result of that initiative did not meet expectations, much was learned from that effort.

Reflecting experiences at both local and national levels to develop and test first-generation HMIS software, today's most advanced HMIS software combines a number of functionalities to enhance individual service provider operations and to link providers together into a broader CoC data-sharing system. These functionalities include:

Client Profile: Client demographic data obtained at intake and exit.

Client Assessment: Information on clients' needs and goals, as well as case management or treatment plans.

Service Outcomes: Client-level data on services provided, progress, outcomes, and follow-up.

Information and Referral/Resource Directories: Timely data on the network of available services within the Continuum to determine eligibility and provide referrals. Some systems provide documentation and tracking of a referral from one provider to the next and messaging capability.

Operations: Operational functionality that permits staff to manage day-to-day activities, including bed availability, and incident reporting.

Accounting: Traditional accounting tools and special components to record service activity/expenditures against specific grants. Some systems have donor and fundraising elements.

All these functionalities provide local providers and agencies with the ability to generate reports on their internal operations and for various funders. Because each agency agrees to share certain information with the HMIS, there is also the ability to generate reports on the operations of the Continuum of Care system as a whole.

One of HUD's major goals in this HMIS initiative is to help individual homeless service providers access the very best computer technology to assist them in their day-to-day operations and to help increase the effective coordination of services in the Continuum of Care. To this end, HUD has developed several publications to assist local jurisdictions including: Homeless Management Information System Consumer Guide: A Review of Available HMIS Solutions, January 2003; and Homeless Management Information Systems: Implementation Guide, September 2002. These guides can be found at http://www.hud.gov/offices/cpd/homeless/hmis/guide.

The Benefits of an HMIS

An HMIS provides significant opportunities to improve access to, and delivery of, services for people experiencing homelessness. An HMIS can accurately describe the scope of homelessness and the effectiveness of efforts to ameliorate it. An HMIS can strengthen community planning and resource allocation.

Homeless Clients

An HMIS offers many benefits to persons seeking and receiving homeless assistance services. Homeless clients can benefit from more effective and streamlined referrals from on-line information and referral and service directories. Clients can benefit from enhanced intra-agency coordination. For example, advanced HMIS software has been developed that both calculates client eligibility for multiple programs and generates ready-to-sign applications for those programs.

If information about clients is shared across providers, these systems can be used to reduce the number of times that clients are required to complete intake forms and assessments. They also allow providers to coordinate and track activities and services more effectively within a locality, streamline the referral process, and improve case management services for homeless clients. Finally, homeless persons benefit from the Continuum of Care's ability to better understand their characteristics and needs as well as the system's effectiveness in responding to homelessness in general and the unique needs of various homeless subpopulations.

Service Providers

An HMIS offers front-line service staff tools for providing more effective client services through improved referrals, interagency case management, and service coordination. At local discretion, an HMIS can be used as an operational tool to share assessments of client needs, to link clients to needed services from multiple providers, to track the provision of services across providers, and to determine the current location of clients within the service system. Many communities have already used HMIS in this way, and many more are likely to do so. Agency administrators can better manage operational information through ready access to a variety of agency, program, and client reports.

Through funding and technical assistance, HUD intends to help communities develop HMIS to facilitate service delivery.

The Local Continuum of Care

Policy makers and advocates benefit from access to CoC data that describe the extent and nature of homelessness and provide a greater understanding of service usage, effectiveness, and gaps. This information can be used to target limited resources and inform planning and policy decisions. Local CoCs can use HMIS to demonstrate the size and characteristics of their homeless population and current patterns of service use by that population, including access to mainstream services. CoCs can and should use analysis of HMIS data to demonstrate the need for additional resources to public and private funding sources. HMIS data can also be used to understand how to realign housing resources and service delivery within the CoC and how to create the links to mainstream programs that are essential to the prevention of homelessness and to sustaining formerly homeless people in permanent housing. Compared to other commonly used methods for gathering information on homeless persons, notably point-in-time census counts, HMIS present local CoCs with the opportunity to obtain significantly better data about homelessness in their communities and to analyze that information over time.

National Policy Makers

HMIS will also help national policy makers and advocates more effectively address homelessness. Congress has charged HUD with producing an Annual Homeless Assessment Report (AHAR) based on HMIS data. To carry out that responsibility, HUD is developing the national HMIS data and technical standards described in this notice. In addition, HUD will develop a representative sample of 80 jurisdictions and will help those jurisdictions develop their HMIS, collect good quality data, and conduct analysis to support unduplicated counts of homeless service users and their characteristics at the local level. Analysis of HMIS data from the 80-jurisdiction sample will form the core of the AHAR and will enable Congress and HUD to better understand the needs of homeless persons and target federal resources accordingly.

HUD also has responsibility for funding and monitoring several McKinney-Vento Act programs. HMIS will make it possible for HUD to request—and grantees to provide—information for Annual Progress Reports that will enable HUD to report program results to Congress and the American public as required by the Government Performance Results Act and to meet its administrative and program responsibilities.

1.4 Major HMIS Policy Decisions

A National Client—Level HMIS or Annual Progress Report (APR) Database Will Not Be Created

The HMIS initiative will include no federal effort to track homeless people and their identifying information beyond the local level. HUD has no plans to develop a national client-level database with personal identifiers of homeless service users, having concluded that such plans would create serious impediments to provider participation in local HMIS and to client recourse to local services. This consideration was weighed against the advantages of a national database with personal identifiers that could be used to more accurately identify mainstream service use by homeless persons and analyze data on the characteristics of homeless persons nationwide. It was decided that these objectives can be accomplished through analysis of de-identified HMIS data compiled from CoCs across the country.

Certain Data Must Be Collected by CoCs To Obtain an Unduplicated Count of Homeless Persons and To Fulfill Program Requirements

In order to obtain an unduplicated count of homeless persons at the CoC level, a data standard is proposed for all local HMIS that requires homeless clients be asked for personal identifying information, including name, date of birth, and Social Security number, when seeking housing or services. At the time that personal identifying information is collected from each client, he or she must be given an explanation of how the information will be used, how it will be protected, and the advantages of providing accurate information. Standards for notification about the purposes of data collection, non-disclosure, and protection of data are discussed in Part 4 of this notice.

Providers will be required to report the client-level data specified in this notice on a regular basis to a central data storage facility. The CoC will be responsible for aggregating the data and preparing an unduplicated local count of homeless persons. This body must also retain the data for a period of five years adhering to the security provisions set forth in Part 4 of this notice.

In addition to data required for creating unduplicated counts, HUD, other federal agencies, state and local governments, and private funders of homeless services often require certain information to determine eligibility for housing or services or to assess needed services. This eligibility-related information is often statutory and/or regulation-based and is contained in provider agreements. Therefore, some providers are required to obtain certain information from homeless persons as a condition for receiving services. (See HUD's McKinney-Vento Act client-eligibility and assessment program requirements above.) Exceptions to this requirement may occur in outreach programs to the street homeless or other nonresidential-based services such as soup kitchens. In such cases, an intake is often not taken, or even possible, and no information is required to access the service. It is not HUD's intention that clients be denied service if they refuse to supply identifying information.

Sharing of HMIS Data Among Providers Is Encouraged But Not Required

While local providers will be required to report a limited amount of client-level data to a CoC's central data storage facility on a regular basis, sharing of HMIS data among providers within the CoC is not required by HUD and is at the discretion of each CoC. CoCs that share data may choose to share all of the information that is collected about clients or limit that information to a small number of data elements. If the CoC decides to share limited data among providers, it should allow access to at least the name, Social Security number, and birthdate of the persons served in order to determine whether the individual who is applying for services was previously served within the CoC.

Sharing of HMIS information among providers within a CoC allows local providers and clients to obtain maximum benefits from such systems. From an operational perspective, it improves the ability of service provider staff to coordinate and deliver services to homeless clients. From a policy and research perspective, sharing enables the CoC to obtain most efficiently and accurately an unduplicated count of homeless persons at the CoC level, analyze its needs and service patterns, and determine the extent to which mainstream programs are serving homeless persons.

Regardless of whether sharing among providers occurs or not, protected personal identifiers must be encrypted within the HMIS using the highest current standards. Unencrypted data should only be accessible through the local HMIS application at the site. Encryption standards are discussed in Part 4 of this notice.

Special Provisions for Domestic Violence Shelters

Domestic violence shelters and other programs targeting victims of domestic violence play an important role in many CoCs and have received significant funding through local Continuums. Domestic violence victims are also served in many general purpose emergency and transitional facilities funded by HUD. HUD is aware of, and is sensitive to, the data confidentiality and security concerns that many domestic violence shelters have with respect to their participation in a local HMIS. HUD is also aware of a range of provider practices and protocols for collecting intake and other information from clients who are victims of domestic violence.

As mentioned in Section 1.2, the ESG and SHP programs have specific domestic shelter/victims protections. These programs must still aggregate basic demographic and other information to submit to the ESG Integrated Disbursement and Information System (IDIS) and/or the SHP Annual Progress Report. The key to many domestic shelters' participation in existing HMIS hinges on the availability of sophisticated specific HMIS software that addresses data security issues and the protocols for data security, confidentiality, and sharing developed at the local level.

At a minimum, HUD will not expect a domestic violence shelter it funds to participate in a local HMIS where HMIS software or data protocols raise a significant risk to its clients. In addition, providers of homeless assistance services will not be required to report personal identifying information for victims of domestic violence or for people in witness protection programs to a central storage facility given the unique concerns about personal safety for these populations. However, providers will be expected to provide unduplicated project-level data about participant characteristics without personal identifiers.

It should be emphasized that HMIS have the potential for providing valuable data concerning domestic violence victims' needs at the local and national levels. HUD invites continued dialogue with domestic violence shelters and advocates concerning appropriate national data and technology standards to protect domestic violence victims and encourage participation in local HMIS, thus extending HMIS benefits to victims of domestic violence.

1.5 Who Must Participate in Homeless Management Information Systems

Given the benefits of an HMIS for improving housing and service provision at the local level and providing accurate estimates of the homeless population and its needs, all recipients of HUD McKinney-Vento Act program funds are expected to participate in an HMIS. The HUD McKinney-Vento Act programs include Emergency Shelter Grants, Supportive Housing Program, Shelter Plus Care, and Section 8 Moderate Rehabilitation for Single Room Occupancy (SRO). In the FY 2003 funding notices for the Supportive Housing, Shelter Plus Care, and Section 8 SRO Moderate Rehabilitation programs, HUD announced that providing data to an HMIS is a condition of funding for grantees. It is expected that all recipients of Housing Opportunities for Persons with AIDS (HOPWA) funding whose projects intentionally target assistance, conduct outreach, and/or conduct other specialized efforts to serve HOPWA eligible persons who are homeless, should ensure that reporting on assistance to these persons is integrated within the area's HMIS efforts. HOPWA projects that serve homeless persons are expected to, and strongly encouraged to, participate in the area's HMIS.

The annual CoC application requires information about a CoC's progress in developing and implementing its HMIS. This information is used to rank CoCs in order to determine annual program funding. The application questions will be more detailed in the future to make possible an accurate determination of the extent of coverage and stage of implementation of each HMIS.

Recipients of funds under most HUD McKinney-Vento Act programs and HOPWA are required to submit Annual Progress Reports (APRs) to HUD. In the future, much of the information to be included in APRs will be derived from HMIS data. This will be possible since guidelines for reporting to the APR will reflect the data standards set forth in this notice and used in the HMIS. HUD will also be considering the value of automatic submission of aggregate APR data. For ESG and HOPWA grantees and recipients who are covered under the area's Consolidated Plan, performance reporting involves the annual submission of a Comprehensive Annual Performance Evaluation Report (CAPER) along with the use of the Department's Integrated Disbursement and Information System (IDIS). HMIS will also provide a valuable tool to communities to provide the basic data that will be used to inform the performance reports used for these formula programs.

HUD may at some point use an APR driven by HMIS data to measure the performance of both McKinney-Vento Act program grantees and CoC more generally. Should that occur, performance indicators would be developed through a process of consultation with providers of services to homeless persons. Performance indicators would need to be carefully designed to include appropriate adjustments for the characteristics of the population served by a CoC and individual providers and the nature of the services provided. CoC grantees and software developers would be given sufficient time to adopt enhancements to their systems to accommodate these new outcome indicators.

1.6 Staging of Local HMIS Implementation

HUD recognizes that developing and implementing an HMIS is a difficult and time-consuming process and must necessarily be done in stages. A CoC's first priority is to bring on board the emergency shelters and transitional housing programs that receive HUD McKinney-Vento Act funding. However, HUD also encourages CoCs to actively recruit providers that receive HUD funding through sources other than the McKinney-Vento Act. These providers should be included in the HMIS as early as possible.

Other federal agencies that fund McKinney-Vento Act programs have their own data collection and reporting requirements. Key federal agency representatives were invited and participated in consideration of proposed HMIS data elements for this notice. HUD continues to work with those agencies to maximize standardization of McKinney-Vento Act reporting requirements and to broaden adoption of HMIS-based data.

The inclusion of any other local homeless assistance programs in an HMIS is encouraged, but it is a matter of local choice and will depend on the nature of the local service system. The decision to include other programs may require local HMIS designers to make trade-offs between the desirability of including as many homeless service providers as possible and the feasibility of obtaining high quality data. At the same time, given the benefits of HMIS to clients, service providers, and the larger CoC system, a high degree of coverage is both desirable and advantageous.

As the later standards indicate, HUD does not expect every CoC to implement the widest range of functionality for every homeless shelter and service provider in the short-run. HUD encourages CoCs to focus initially on developing demographic information about homeless clients. However, it should be noted that client assessment and service outcome modules are valuable tools to track client needs and progress. This greater level of data collection will enhance the ability of individual providers and CoCs to document client needs and ensure program requirements are met.

BILLING CODE 4210-29-P

BILLING CODE 4210-29-C

1.7 Why Uniform Data Standards Are Necessary

Uniform data standards are needed so that CoCs across the country can generate HMIS-based reports with comparable data elements, definitions, and comprehensiveness. The consistency of the HMIS reports will make it possible to compare the characteristics of homeless populations and the services provided both within and across CoCs. The data collection methods specified in the data standards also provide safeguards to the vulnerable populations that are the subjects of an HMIS.

To advise HUD in developing the data standards set forth in Parts 2 and 3 of this notice, HUD assembled a group of experts on August 27 and 28, 2002. The experts included representatives from CoCs with more advanced HMIS systems, experts from federal agencies that collect data on vulnerable populations, researchers on homelessness, advocacy organizations, and providers of technical assistance to communities that have developed HMIS.

Based on the advice provided in those meetings and following further consultations with those experts and other homelessness specialists, HUD has determined that there are three levels of data that may be included in an HMIS: Universal data elements, program-level data elements, and elective data elements. Only the universal and program-level data elements are discussed in the sections of the notice (Parts 2 and 3) that describe data standards.

• Universal data elements are to be collected from all clients served by all programs reporting to the HMIS. These data elements are needed for CoCs to understand the basic dynamics of homelessness on the local level and for HUD to meet the Congressional direction for an unduplicated count of homeless service users at the local level and a description of their characteristics. Any personal identifiers collected in accordance with these standards shall be encrypted and subject to severely restricted access.

• Program-level data elements are elements to be collected from clients served by programs—federal, state, or local—that include an assessment of the client's needs as a basic element in their provision of service. That assessment elicits key information used to plan service delivery (in some cases), determine eligibility for services, track the provision of services, and record outcomes. Program funders may require the collection of certain program-level data elements as part of their annual reporting requirements. Several projects under HUD's McKinney-Vento Act programs, including the Supportive Housing Program, Shelter Plus Care, and Section 8 Moderate Rehabilitation for Single Room Occupancy Dwellings, and for Housing Opportunities for Persons with AIDS (HOPWA), intentionally target assistance, conduct outreach, and/or conduct other specialized efforts to serve HOPWA eligible persons who are homeless. For these projects, program participants should ensure that reporting on assistance to persons who are homeless is integrated within the area's HMIS efforts. HOPWA projects that serve homeless persons are expected to, and encouraged to, participate in the area's HMIS. This is discussed in more detail in Part 3 of this notice.

Program-level data elements include private or sensitive information on topics such as income, physical disabilities, behavioral health status, and whether the client is currently at risk of domestic violence. At the time this information is collected, the client will be told the purpose for which the question is being asked and the way in which the client may benefit from answering the question (for example, by suggesting need or eligibility for a particular service). Local CoCs will have to establish firm policies and procedures to protect against unauthorized disclosure of personal information. This will be discussed in more detail in Part 4 of this notice.

• Elective data elements are any data elements not specified as universal or program-level. Some HMIS, particularly those used directly as a tool in the provision of services, may be very complex. Particular programs (or the entire local CoC) may wish to collect assessment, service tracking, and outcome information in more detail than required by the uniform HMIS standards. For example, with regard to behavioral health, a program may wish to capture significantly more information about a client's psychiatric history or current status than is specified under the program-level data elements. Such elective data elements and response categories are developed at the discretion of each CoC. However, if the CoC or a local provider collects more information than is required by the HMIS data standards, the CoC or provider must be able to transform the more detailed data into the broader data elements and response categories of HMIS data standards.

Furthermore, HMIS are not limited to the topics covered by the data elements in this notice. Local patterns for delivery of services and local decisions on the scope of participation in the HMIS may call for additional data collection modules that are entirely different from the data elements that are the subject of this notice.

The next two parts of the notice set forth the HMIS data standards. Part 2 presents the universal data elements to be collected from all clients. Part 3 presents program-level data elements to be collected from clients in certain types of programs. Recommended data collection guidelines, question wording, and required response categories are provided for each data element, and, when appropriate, there is a discussion of special issues. Part 4 of this notice describes in more detail the standards for data confidentiality and security to which an HMIS will be expected to adhere. Finally, Part 5 addresses technical standards for the creation of data systems.

2. Data Standards for Universal Data Elements

HUD has determined that some data elements should be collected by all agencies serving homeless persons. HUD carefully weighed the reporting burden of the universal data elements against the importance of the information for producing meaningful reports. Of special concern to HUD was the reporting burden for shelters that register large numbers of applicants on a nightly basis, with little time to collect information from each applicant. As a result, the number of universal data elements was kept to a minimum, and the ease of providing the information requested was considered for each element.

The Department is inviting comments on how Homeless Management Information Systems can be used to measure chronic homelessness. At present, the universal data standards will provide information on the month and year a homeless individual left his or her last permanent address. Further, HMIS will generate information on shelter stays and homelessness episodes over time. However, given shelter worker demands and other considerations, a determination of disability is currently outside the scope of what is collected as part of the universal data elements.

The universal data elements include:

• 2.1: Name

• 2.2: Social Security Number

• 2.3: Date of Birth

• 2.4: Ethnicity and Race

• 2.5: Gender

• 2.6: Veteran Status

• 2.7: Residence Prior to Program Entry

• 2.8: Zip Code of Last Permanent Address

• 2.9: Month and Year Person Left Last Permanent Address

• 2.10: Program Entry Date

• 2.11: Program Exit Date

• 2.12: Unique Person Identification Number

• 2.13: Program Identification Number

• 2.14: Program Event Number

• 2.15: Household Identification Number

• 2.16: Children's Questions

Data elements 2.1 through 2.11 require that staff from a homeless assistance agency enter information provided by a client into the HMIS database. For each of these data elements one or more questions and multiple response categories are provided. There is no requirement that the questions appear on the computer screens generated by the HMIS application. At the same time, staff are highly encouraged to use them.

The response categories are required and the HMIS application must include these responses exactly as they are presented in this section. Part 5 of this notice, Technical Standards, discusses approaches for handling missing response categories throughout the HMIS application.

The universal data questions must be asked of each adult who applies for a homeless assistance service. Where a group of persons apply for services together (as a household or family), the intake worker will first ask for information from the household head who is applying for services and then request information from him/her about any children under the age of 18 who are applying for services with the household head. (The children do not need to be present at the time the household head applies for services.) Any other adults (18 years of age or older) who are applying for services with this group of persons will be interviewed separately. One adult should not provide information for another adult.

Because this section follows an interview format, all of the data elements that are asked of an adult are presented first in this section, followed by the data elements that are required for any children (presented in 2.16).

Elements 2.12 to 2.15 are automatically generated by the data collection software, although staff inquiries are essential for the proper generation of these elements.

All protected personal information, including data elements 2.1, 2.2, 2.3, 2.8, 2.10, 2.11, 2.12, and 2.13 will be encrypted using at least 128-bit encryption standards. This will render the data unusable to any casual viewer, as the information will not be able to be unencrypted and viewed except through the local HMIS application. Jurisdictions must have the capacity to unencrypt HMIS data at the local level. HMIS user access to this information will be highly restricted in accordance with Part 4 of this notice.

2.1 Name

Rationale: The first, middle, and last names should be collected to support the unique identification of each person served.

Data Collection Methods: Interview or self-administered form.

When Data Are Collected: Upon initial program entry or as soon as possible thereafter.

Subjects: All adults and children served.

Recommended Interview Questions and Required Response Categories:

Q: “What is your first, middle, and last name?” (legal names only; avoid aliases or nicknames)

(example: John David Doe, Jr.)

88—Don't know

99—Refused

Q: “Have you ever received services under a different name?”

0—No

1—Yes

88—Don't know

99—Refused

If yes:

Q: “What was the other name under which you received services?”

Special Issues: Four fields should be created in the HMIS database to capture suffixes such as “Junior” or “II” in addition to their full first, middle, and last names. Part 5 of this notice discusses how to treat missing information for open-ended questions.

This data standard should be treated as a protected personal identifier and is subject to the security standards for personal identifiers set forth in Part 4 of this notice.

2.2 Social Security Number

Rationale: The Social Security number should be collected to support the unique identification of each person served.

Data Collection Methods: Interview or self-administered form.

When Data Are Collected: Upon initial program entry or as soon as possible thereafter.

Subjects: All adults and children served.

Recommended Interview Questions and Required Response Categories:

Q: “What is your Social Security number?” (use “X” for missing numbers) [If client declines to provide his/her SSN, he/she cannot be declined services on that basis].

___/__/__ __ (example: 123 45 6789, or 123 45 XXXX)

77—Does not have a Social Security number

88—Don't know

99—Refused

Special Issues: Clients cannot be denied services if they refuse to provide their Social Security number.

Although the HMIS application's data entry form may include hyphens within the SSN to improve readability, one alphanumeric field without hyphens should be created within the HMIS database.

This data standard should be treated as a protected personal identifier, and is subject to the security standards for personal identifiers set forth in Part 4 of this notice.

2.3 Date of Birth

Rationale: The date of birth can be used to calculate the age of persons served at time of program entry or at any point in receiving services. It will also support the unique identification of each person served.

Data Collection Methods: Interview or self-administered form.

When Data Are Collected: Upon initial program entry or as soon as possible thereafter.

Subjects: All adults and children served.

Recommended Interview Questions and Required Response Categories:

Q: “What is your birth date?” (use “X” for missing numbers)

__/__/____(example: 01/31/2002, or 01/XX/2002)

(Month) (Day) (Year)

If complete birth date is not known:

Q: “In what year were you born?”

____

88—Don't know

99—Refused

Q: “In what month were you born?”

____

88—Don't know

99—Refused

If neither year nor month of birth is known:

Q: “What is your age?”

____ years old

88—Don't know

99—Refused

Special Issues: One date-format field for complete birth dates should be created in the HMIS database.

This data standard should be treated as a protected personal identifier, and is subject to the security standards for personal identifiers set forth in Part 4 of this notice.

2.4 Ethnicity and Race

Rationale: Ethnicity and race can be used to count the number of homeless persons who identify themselves as Hispanic and to count the number of homeless persons who identify themselves within five different racial categories. In the October 30, 1997, issue of the Federal Register (62 FR 58782), the Office of Management and Budget (OMB) published “Standards for Maintaining, Collecting, and Presenting Federal Data on Race and Ethnicity.” All existing federal recordkeeping and report requirements must be in compliance with these Standards as of January 1, 2003.

Data Collection Methods: Interview or self-administered form. Staff observations should not be used to collect information on ethnicity and race.

When Data Are Collected: Upon initial program entry or as soon as possible thereafter.

Subjects: All adults and children served.

Recommended Interview Questions and Required Response Categories:

Ethnicity

Q: “Are you Hispanic or Latino?”

0—No (Non-Hispanic/Non-Latino)

1—Yes (Hispanic or Latino)

88—Don't know

99—Refused

Race

Q: “What is your race (you may name more than one race)?”

1—American Indian or Alaska Native (A person having origins in any of the original peoples of North and South America—including Central America—and who maintains tribal affiliation or community attachment.)

2—Asian (A person having origins in any of the original peoples of the Far East, Southeast Asia, or the Indian subcontinent including, for example, Cambodia, China, India, Japan, Korea, Malaysia, Pakistan, the Philippine Islands, Thailand, and Vietnam.)

3—Black or African American (A person having origins in any of the black racial groups of Africa. Terms such as “Haitian” or “Negro” can be used in addition to “Black or African American”.)

4—Native Hawaiian or Other Pacific Islander (A person having origins in any of the original peoples of Hawaii, Guam, Samoa, or other Pacific Islands.)

5—White (A person having origins in any of the original peoples of Europe, the Middle East, or North Africa.)

88—Don't know

98—Not applicable

99—Refused

Special Issues: The HMIS should treat race as five separate fields to account for multiple race responses. For instance, if a respondent identifies herself as White and Asian, code “5” is recorded in the first data field, “2” is recorded in the second data field, and “98” (Not applicable) in the remaining data fields.

2.5 Gender

Rationale: To create separate counts of homeless men and homeless women served.

Data Collection Methods: Interview, observation, or self-administered form.

When Data Are Collected: Upon initial program entry or as soon as possible thereafter.

Subjects: All adults and children served.

Recommended Interview Questions and Required Response Categories:

Q: “Are you male or female?”

0—Male

1—Female

88—Don't know

99—Refused

Special Issues: The gender questions are meant to capture the self-perceived sexual identity of the person interviewed and the caregiver's perception of the children who are with him/her. If the person replies that he/she is unsure of gender for any member of the household, the interviewer should record “Don't know.”

Programs may add a “transgender” category as needed. However, for reporting purposes this category will be represented as “Don't know.”

2.6 Veteran Status

Rationale: To determine the number of homeless veterans.

Data Collection Methods: Interview or self-administered form.

When Data Are Collected: Upon initial program entry or as soon as possible thereafter.

Subjects: All adults served.

Recommended Interview Question and Required Response Categories:

Q: “Have you ever served on active duty in the Armed Forces of the United States?”

0—No

1—Yes

88—Don't know

99—Refused

Special Issues: The “Armed Forces” do not include inactive military reserves or the National Guard unless the person has been called up to active duty.

2.7 Residence Prior to Program Entry

Rationale: To identify the type of residence experienced just prior to program admission.

Data Collection Methods: Interview or self-administered form.

When Data Are Collected: Upon initial program entry or as soon as possible thereafter.

Subjects: All adults and, if necessary, children served.

Recommended Interview Questions and Required Response Categories:

Q: “Where did you stay last night?”

1—Emergency shelter

2—Transitional housing for homeless persons

3—Permanent housing for formerly homeless persons

4—Psychiatric facility

5—Substance abuse treatment facility

6—Hospital

7—Jail

8—Prison

9—Hotel or motel

10—Foster care home

11—Own room, apartment, or house

12—Living with someone else (family and friends)

13—A car or other vehicle

14—An abandoned building

15—At a transportation site (bus station, airport, subway station, etc.)

16—Anywhere outside (streets, parks, campgrounds, cardboard boxes, etc.)

17—Other

88—Don't know

99—Refused

Q: “How long did you stay at that place?”

1—Less than one week

2—One to two weeks

3—Three weeks to one month

4—Two to three months

5—Four to six months

6—Seven months to one year

7—More than one year

88—Don't know

99—Refused

Special Issues: This standard does not preclude the collection of residential history information beyond the residence experienced the night prior to program admission.

2.8 Zip Code of Last Permanent Address

Rationale: To identify the former geographic location of persons experiencing homelessness.

Data Collection Methods: Interview or self-administered form.

When Data Are Collected: Upon initial program entry or as soon as possible thereafter.

Subjects: All adults and, if necessary, children served.

Recommended Interview Questions and Required Response Categories:

Q: “What is the zip code of the apartment, room, or house where you last lived for six consecutive months or more?”

_____(5 digits)

88—Don't know

99—Refused

If zip code is unknown, ask:

Q: “What was the street address?”

__________ _____ _

(Number and Street) (City) (State)

Special Issues: If the last permanent address was institutional (e.g., prison, psychiatric hospital), ask for its address. If a street address is provided, three separate fields for number/street, city, and state should be generated. Use standard state abbreviations for the state data field. Part 5 of this notice discusses how to treat missing information for open-ended questions.

This data standard should be treated as a protected personal identifier and is subject to the security standards for personal identifiers set forth in Part 4 of this notice.

2.9 Month and Year Person Left Last Permanent Address

Rationale: To estimate the amount of time a person has been homeless or unstably housed.

Data Collection Methods: Interview or self-administered form.

When Data Are Collected: Upon initial program entry or as soon as possible thereafter.

Subjects: All adults and, if necessary, children served.

Recommended Interview Question and Required Response Categories:

Q: “What month and year did you leave the last apartment, room, or house where you lived for six months or more?” (use “X” for missing numbers)

__/____ (example: 01/2002, or XX/2002) (Month) (Year)

88—Don't know

99—Refused

2.10 Program Entry Date

Rationale: To calculate the length of stay in a homeless residential program or the amount of time spent participating in a services-only program.

Data Collection Methods: Recorded by the staff responsible for registering program entrants.

When Data Are Collected: Upon any program entry (whether or not it is an initial program entry).

Subjects: All adults and children served.

Recommended Interview Question and Required Response Categories:

__/__/____(example: 01/31/2002) (Month) (Day) (Year)

Special Issues: For a shelter visit, this date would represent the first day of residence in a shelter program following residence outside of the shelter or in another program. For example, the first date of service may be the date a person is admitted into a shelter, after residing in an abandoned building or with relatives the night before. It may also represent the first date of residence in a transitional program after transferring from an emergency shelter program. For services, this date may represent the day a service was provided, or the first date of a period of continuous service. For example, if a person receives daily counseling as part of an ongoing treatment program, the first date of service could be the date of enrollment in the treatment program.

Any return to a program one day or more after the last date of utilization must be recorded as a new program entry date.

This data standard should be treated as a protected personal identifier and is subject to the security standards for personal identifiers set forth in Part 4 of this notice.

2.11 Program Exit Date

Rationale: To calculate the length of stay in a homeless residential program or the amount of time spent participating in a services-only program.

Data Collection Methods: Recorded by the staff responsible for monitoring program utilization or conducting exit interviews.

When Data Are Collected: Upon any program exit.

Subjects: All adults and children served.

Recommended Interview Question and Required Response Categories:

__/__/____ (example: 01/31/2002) (Month) (Day) (Year)

Special Issues: For a shelter visit, this date would represent the last day of residence in a shelter program before the day that the client transfers to another residential program or otherwise leaves the shelter. For example, the last date of service would be the last night the person stayed at the shelter prior to moving into permanent or transitional housing, or failing to return to the shelter. For services, this date may represent the day a service was provided or the last date of a period of continuous service. For example, if a person has been receiving daily counseling as part of an ongoing treatment program and either formally terminates their involvement or fails to return for counseling, the last date of service could be the date of termination or date of the last counseling session.

If a client has not utilized a program for one day or more, the last day of utilization must be recorded as the program exit date.

This data standard should be treated as a protected personal identifier and is subject to the security standards for personal identifiers set forth in Part 4 of this notice.

2.12 Unique Person Identification Number

Rationale: Every client receiving homeless assistance services within a CoC is assigned a Personal Identification Number (PIN), which is a permanent and unique number generated by the HMIS application. The PIN is used to obtain an unduplicated count of persons served within a CoC.

Data Collection Methods: Where data are shared across programs in a CoC, staff will determine at intake whether a client has been previously assigned a PIN. To make this determination, the staff enters personal identifying information (Name, Social Security Number, Date of Birth, and Gender) into the HMIS application. The application then searches a CoC's centralized database for matching records. If a match is found and a PIN is retrieved, the same PIN will be assigned to the client. If no matches are found, a new randomly generated PIN is assigned to the client.

Where data are not shared across programs, programs will provide client-level information on a regular basis to the CoC system administrator. The CoC administrative staff are responsible for assigning PINs by searching and matching client records using personal identifying information.

When Data Are Collected: When data are shared across programs, upon program entry or as soon as possible thereafter. When data are not shared across programs, the assignment of PINs occurs after client records are submitted to the CoC system administrator.

Subjects: All adults and children served.

Recommended Interview Question and Required Response Categories:

The following question may facilitate the search for an existing Personal Identification Number:

Q: “Have you ever been served by this [name of facility or program] before?”

0—No

1—Yes

88—Don't know

99—Refused

Special Issues: The PIN is a random number automatically generated by the HMIS application (see Part 5 of this notice).

This data standard should be treated as a protected personal identifier and is subject to the security standards for personal identifiers set forth in Part 4 of this notice.

2.13 Program Identification Number

Rationale: Program identification numbers will indicate the geographic location of a program, its facility and CoC affiliation, and whether the program is a street outreach, emergency shelter, transitional housing, permanent supportive housing, or services-only type of program.

Data Collection Methods: Selected by staff from a list of programs available within a particular agency or the CoC. Upon selection of a program from the list, the HMIS application will assign the program identification number to the client's record.

When Data Are Collected: Upon any program entry (whether or not it is an initial program entry).

Subjects: All adults and children served.

Special Issues: The program identification number will be constructed in a way that identifies the geographic location of a program, its facility and CoC affiliation, and whether it is a street outreach, emergency shelter, transitional housing, permanent supportive housing, or services-only type of program. On an HMIS data entry screen, program staff may view and select from a listing of programs. The HMIS application then generates the program identification number. For more information, see Part 5 of this notice. This data standard should be treated as a protected personal identifier and is subject to the security standards for personal identifiers set forth in Part 4 of this notice.

2.14 Program Event Number

Rationale: To distinguish the unique episodes of program service utilization.

Data Collection Methods: A Program Event Number is automatically generated for each episode of service by the HMIS application. The number is generated from program entry and exit dates, program identifier numbers, and Personal Identification Numbers.

Subjects: All adults and children served.

Special Issues: This number is necessary for identifying unique episodes of program service utilization. It is particularly useful when a client has received multiple services from a single program or provider on the same day. For example, if a client receives mental health counseling and general medical services from a single provider on the same day, separate program event numbers will be generated for each service. For more information, see Part 5 of this notice.

2.15 Household Identification Number

Rationale: To count the number of households served.

Data Collection Methods: Interview or staff observation that client is participating in a program with other members of a household.

When Data Are Collected: Upon any program entry (whether or not it is an initial program entry) or as soon as possible thereafter. Persons can join a household with members who have already begun a program event, or leave a program although other members of the household remain in the program.

Subjects: All adults and children served.

Recommended Interview Questions and Required Response Categories:

If it is not evident that others are applying for or receiving assistance with the client, then ask:

Q: “Who else is applying for (or receiving) assistance with you?”

Q “What is their first, middle, and last name?” (legal names only; avoid aliases and nicknames)

(example: John David Doe, Jr.)

88—Don't know

99—Refused

Special Issues: A household is a group of persons who together apply for and/or receive a specific homeless assistance service.

A common household identification number should be assigned to each member of the same household. Individuals in a household (adults and/or children) who are not present when the household initially applies for assistance and later join the household should be assigned the same household identification number that links them to the rest of the persons in the household. Part 5 of this notice discusses how to treat missing information for open-ended questions.

See section 2.16 for questions that may be asked about household members under 18 years of age.

2.16 Children's Questions

Recommended Interview Questions and Required Response Categories:

Name

Q. “Do you have any children under 18 years of age with you?”

0—No

1—Yes

88—Don't know

99—Refused

If yes,

Q: “What is (are) the first, middle, and last name(s) of the child(ren) with you?”

(example: Jane Mary Doe)

88—Don't know

99—Refused

Social Security Number

Q: “What is (are) the Social Security number(s) for [name of child]?” (use “X” for missing numbers)

___ __ ____ (example: 123 45 6789 or 123 45 XXXX)

77—Does not have a Social Security number

88—Don't know

99—Refused

Date of Birth

Q: “What is the birth date of [name of child]?” (use “X” for missing numbers)

__/__/____ (example: 01/31/2002 or 01/XX/2002) (Month) (Day) (Year)

If complete birth date(s) is(are) not known:

Q: “What year was [name of child] born in?”

___

88—Don't know

99—Refused

Q: “What month was [name of child] born in?”

___

88—Don't know

99—Refused

If neither year nor month of birth is known:

Q: “What is the age of [name of child]?”

___years old

88—Don't know

99—Refused

Ethnicity

Q: “Is [name of child] Hispanic or Latino?”

0—No (Non-Hispanic/Non-Latino)

1—Yes (Hispanic or Latino)

88—Don't know

99—Refused

Race

Q: “What is the race of [name of child] (you may name more than one race)?”

1—American Indian or Alaska Native (A person having origins in any of the original peoples of North and South America—including Central America—and who maintains tribal affiliation or community attachment.)

2—Asian (A person having origins in any of the original peoples of the Far East, Southeast Asia, or the Indian subcontinent including, for example, Cambodia, China, India, Japan, Korea, Malaysia, Pakistan, the Philippine Islands, Thailand, and Vietnam.)

3—Black or African American (A person having origins in any of the black racial groups of Africa. Terms such as “Haitian” or “Negro” can be used in addition to “Black or African American”.)

4—Native Hawaiian or Other Pacific Islander (A person having origins in any of the original peoples of Hawaii, Guam, Samoa, or other Pacific Islands.)

5—White (A person having origins in any of the original peoples of Europe, the Middle East, or North Africa.)

88—Don't know

98—Not applicable

99—Refused

Gender

Q: “Is [name of child] male or female?”

0—Male

1—Female

88—Don't know

99—Refused

Residence Prior to Program Entry

Q: “Where did [name of child] stay last night?”

1—Emergency shelter

2—Transitional housing for homeless persons

3—Permanent housing for formerly homeless persons

4—Psychiatric facility

5—Substance abuse treatment facility

6—Hospital

7—Jail

8—Prison

9—Hotel or motel

10—Foster care home

11—Own room, apartment, or house

12—Living with someone else (family and friends)

13—A car or other vehicle

14—An abandoned building

15—At a transportation site (bus station, airport, subway station, etc.)

16—Anywhere outside (streets, parks, campgrounds, cardboard boxes, etc.)

17—Other

Q: “How long did [name of child] stay at that place?”

1—Less than one week

2—One to two weeks

3—Three weeks to one month

4—Two to three months

5—Four to six months

6—Seven months to one year

7—More than one year

8—Don't know

9—Not applicable

10—Refused

Zip Code of Last Permanent Address

Q: “Was [name of child] living with you at the last place you lived for six consecutive months or more?”

0 —No

1—Yes

88—Don't know

99—Refused

Month and Year Child Left Last Permanent Address

If response to “Was [name of child] living with you at the last place you lived for six consecutive months or more” question is “No,” ask:

Q: “What month and year did [name of child] leave the last place where [he or she] lived for six months or more?” (use “X” for missing numbers)

__/__/____ (example: 01/2002, or XX/2002) (Month) (Year)

88—Don't know

99—Refused

Summary of Universal Data Elements
Data standards | Subjects | Protected personal information | Data entry or computer-generated
Name | Adults and Children | Protected | Data Entry.
SSN | Adults and Children | Protected | Data Entry.
Date of Birth | Adults and Children | Protected | Data Entry.
Ethnicity and Race | Adults and Children |  | Data Entry.
Gender | Adults and Children |  | Data Entry.
Veteran Status | Adults |  | Data Entry.
Residence Prior to Program Entry | Adults and Children |  | Data Entry.
Zip Code of Last Permanent Address | Adults and Children | Protected | Data Entry.
Month and Year Left Last Permanent Address | Adults and Children |  | Data Entry.
Program Entry Date | Adults and Children | Protected | Data Entry.
Program Exit Date | Adults and Children | Protected | Data Entry.
Unique Personal Identification Number | Adults and Children | Protected | Computer-Generated.
Program Identification Number | Adults and Children | Protected | Computer-Generated.
Program Event Number | Adults and Children |  | Computer-Generated.
Household Identifier Number | Adults and Children |  | Computer-Generated.

3. Data Standards for Program-Level Data Elements

Program-level data elements are to be collected from all clients served by some types of programs. These are programs that include as a basic element in their provision of service an assessment of the client's needs. That assessment elicits key information used to plan service delivery, determine eligibility for services (in some cases), track the provision of services, and record outcomes.

The program-level data elements are to be completed as required by a locality or funder. They are provided as part of this notice so that consistent information can be obtained from programs that collect this type of data from homeless persons. For the Supportive Housing Program, Shelter Plus Care, Section 8 Moderate Rehabilitation for Single Room Occupancy Dwellings (SRO) Program, and the Housing Opportunities for Persons with HIV/AIDS (HOPWA) Program, the following program-level data elements and definitions are needed to complete Annual Progress Reports: 3.1 (Income and Sources) through 3.4 (Developmental Disability), 3.7 ( HIV/AIDS Status), 3.8 (Behavioral Health Status), 3.9 (Domestic Violence), 3.11 (Employment), 3.13 (Services Received), 3.14 (Destination), and 3.15 (Follow-up After Program Exit).

The program-level data elements include:

• 3.1: Income and Sources

• 3.2: Non-Cash Benefits

• 3.3: Physical Disability

• 3.4: Developmental Disability

• 3.5: General Health Status

• 3.6: Pregnancy Status

• 3.7: HIV/AIDS Status

• 3.8: Behavioral Health Status

• 3.9: Domestic Violence

• 3.10: Education

• 3.11: Employment

• 3.12: Veterans

• 3.13: Services Received

• 3.14: Destination

• 3.15: Follow-up After Program Exit

• 3.16: Children's Education

• 3.17. Other Children's Questions

Most of the data elements require that staff from a homeless assistance agency enter information provided by the client into the HMIS database. For each data element one or more questions and multiple response categories are provided. As with the universal data elements, there is no requirement that the questions appear on the computer screens generated by the HMIS application. At the same time, staff are highly encouraged to use them. For APR-required data elements, the response categories are required and the HMIS application must include these responses exactly as they are presented in this section.

The program-level data questions are asked of each adult who applies for a homeless assistance service. Where a group of persons apply for services together (as a household or family), the intake worker will first ask for information from the household head who is applying for services and then request information from him/her about any children under 18 years of age who are applying for services with the household head. (The children do not need to be present at the time the household head applies for services.) Any other adults who are applying for services with this group of persons should be interviewed separately, unless an adult is unable to provide information for himself/herself.

Because these standards are presented in an interview format, all of the data elements that are asked of an adult are presented first in this section, followed by the data elements that are required for any children.

Since many program-level data elements include private or sensitive information, HUD requires that the client be told the purpose for which the question is being asked and the ways in which the client may benefit from answering the question (e.g., by suggesting need or eligibility for a particular service). Local CoCs will have to establish firm policies and procedures to protect against unauthorized disclosure of, or misuse of, personal information. These issues will be discussed in more detail in Part 4 of this notice.

3.1 Income and Sources

Rationale: Income and sources of income are important for determining service needs of people at the time of program entry, determining whether they are accessing all income sources for which they are eligible, assessing their degree of vulnerability to chronic homelessness, and describing the characteristics of the homeless population. Capturing the amount of cash income from various sources will help to: Assure all income sources are counted in the calculation of total income; enable program staff to take into account the composition of income in determining needs; determine if people are receiving the mainstream program benefits to which they may be entitled; help clients apply for benefits assistance; and allow analysis of changes in the composition of income between entry and exit from the program.

Data Collection Method: Interview or self-administered form.

When Data Are Collected: Upon initial program entry (or as soon as possible thereafter), at program exit and during periodic follow-up. Needed to complete Annual Progress Reports for certain HUD McKinney-Vento Act programs.

Subjects: All adults served by the program.

Recommended Questions and APR-Required Response Categories:

Earned Income

Q: “Have you [and/or the children who are coming into this program with you] received money from working in the last month?”

0—No

1—Yes

88—Don't know

99—Refused

If yes, then ask the following question:

Q: “Over the last month, how much money did you [and/or the children who are coming to this program with you] receive from working?”

$_ _ _ _00

88—Don't know

99—Refused

Income from Other Sources

Q: Have you [and/or the children who are coming to this program with you] received money from any other sources in the last month?”

0—No

1—Yes

88—Don't know

99—Refused

If yes, then ask the following questions:

Q: “Over the last month, how much money did you [and/or the children who are coming into this program with you] receive from the following sources?”

Q: “Unemployment Insurance?”

$_ _ _ _.00

88—Don't know

99—Refused

Q: “Supplemental Security Income or SSI?”

$_ _ _ _.00

88—Don't know

99—Refused

(For household head with children)

Q: “Was this SSI for you or for a child who is with you?”

1—Self

2—A child

Q: “Over the last month, how much money did you [and/or the children who are coming into this program with you] receive from the following sources?” (Ask each)

$_ _ _ _.00

88—Don't know

99—Refused

a—Social Security Disability Income (SSDI)

b—A veteran's disability payment

c—Private disability insurance

d—Worker's compensation

e—Temporary Assistance for Needy Families (TANF) (or replace with local name)

f—General Assistance (GA) (or replace with local name)

g—Retirement income for Social Security

h—Veteran's pension

i—Pension from a former job

j—Child support

k—Alimony or other spousal support

l—Any other sources

If the client reported any sources of income as “Don't Know” or “Refused,” then ask:

Q: “Over the last month, what was your total income? Please do not include the income of any persons in your household who are 18 years of age or older.”

$_ _ _ _.00

88—Don't know

99—Refused

Special Issues: Note that this is the only data element that combines information for an adult and his or her children under 18 years of age who are participating in a program. Income for any other adult members of the household should be reported separately. Programs may choose to disaggregate the sources of income into more detailed categories as long as these categories can be aggregated into the above stated sources of income.

3.2 Non-Cash Benefits

Rationale: Non-cash benefits are important to determine whether people are accessing all mainstream program benefits for which they may be eligible and to ascertain a more complete picture of their situation.

Data Collection Method: Interview or self-administered form.

When Data Are Collected: Upon initial program entry or as soon as possible thereafter, at program exit, and during periodic follow-up. Needed to complete Annual Progress Reports for certain HUD McKinney-Vento Act programs.

Subjects: All adults served by program.

Recommended Questions and APR-Required Response Categories:

Q: “Have you [and/or the children who are coming into this program with you] received food stamps or money for food on a benefits card in the past month?”

0—No

1—Yes

88—Don't know

99—Refused

Q: “Do you participate in the MEDICAID health insurance program?” (or replace with local name)

0—No

1—Yes

88—Don't know

99—Refused

Q: “Do you participate in the MEDICARE health insurance program?” (or replace with local name)

0—No

1—Yes

88—Don't know

99—Refused

Q: “Do you participate in the State Children's Health Insurance Program (SCHIP)?” (or replace with local name)

0—No

1—Yes

88—Don't know

99—Refused

Q: “Do you participate in WIC?”

0—No

1—Yes

88—Don't know

99—Refused

Q: “Do you receive Veteran's Administration (VA) Medical Services?”

0—No

1—Yes

88—Don't know

99—Refused

Q: “Do you receive TANF Child Care services?” (or replace with local name)

0—No

1—Yes

88—Don't know

99—Refused

Q: “Do you receive TANF transportation services?” (or replace with local name)

0—No

1—Yes

88—Don't know

99—Refused

Q: “Do you receive any other TANF-funded services?” (or replace with local name)

0—No

1—Yes

88—Don't know

99—Refused

Q: “Do you receive help paying for your rent, for instance, Section 8, public housing, or a housing voucher?”

0—No

1—Yes

88—Don't know

99—Refused

Special Issues: Programs may choose to disaggregate the non-cash sources of income into more detailed categories as long as these categories can be aggregated into the above-stated non-cash sources of income. Programs may also choose to ask additional questions about non-cash sources of income, including: information related to benefit eligibility (e.g., if a person is not receiving a service is it because they are not eligible or eligibility has not yet been determined); and start and stop dates for receipt of benefits.

3.3 Physical Disability

Rationale: To count the number of physically disabled persons served by homeless programs, and to determine eligibility for disability benefits.

Data Collection Methods: Interview or self-administered form.

When Data Are Collected: Upon program entry or as soon as possible thereafter. Needed to complete Annual Progress Reports for certain HUD McKinney-Vento Act programs.

Subjects: All adults and children served.

Recommended Question and APR-Required Response Categories:

Q: “Do you consider yourself to have a physical disability? By physical disability, I mean that you have a physical problem that is not temporary and that limits your ability to get around or work, or your ability to live on your own.”

0—No

1—Yes

88—Don't know

99—Refused

3.4 Developmental Disability

Rationale: To count the number of developmentally disabled persons served by homeless programs, and to determine eligibility for disability benefits.

Data Collection Methods: Interview or self-administered form.

When Data Are Collected: Upon program entry or as soon as possible thereafter. Needed to complete Annual Progress Reports for certain HUD McKinney-Vento Act programs.

Subjects: All adults and children served.

Recommended Question and APR-Required Response Categories:

Q: “Have you ever received benefits or services (such as an income supplement or special education classes) for a developmental disability?”

0—No

1—Yes

88—Don't know

99—Refused

Special Issues: Those with developmental disabilities may include persons who have a severe, chronic disability that is attributed to a mental or physical impairment (or combination of physical and mental impairments) that occurs before 22 years of age and limits the capacity for independent living and economic self-sufficiency.

3.5 General Health Status

Rationale: Information on general health status is a first step to identifying what types of health services a client may need. Changes in health status between intake and exit can be a valuable outcome measure. This data element permits the self-reported health status of homeless persons to be compared with the self-reported health status of the U.S. population in general.

Data Collection Method: Interview or self-administered form.

When Data are Collected: Upon initial program entry (or as soon as possible thereafter), program exit, and during periodic follow-up.

Subjects: All adults and children served by the program.

Recommended Questions and Response Categories:

Q: “Compared to other people your age, would you say your health is excellent, very good, good, fair, or poor?”

1—Excellent

2—Very Good

3—Good

4—Fair

5—Poor

88—Don't know

99—Refused

3.6 Pregnancy Status

Rationale: To determine eligibility for benefits and need for services, and to determine the number of women entering programs for homeless persons while pregnant.

Data Collection Method: Interview or self-administered form.

When Data are Collected: Upon initial program entry or as soon as possible thereafter.

Subjects: All adult females served by the program.

Recommended Questions and Response Categories:

Q: “Are you pregnant?”

0—No

1—Yes

88—Don't know

98—Not applicable

99—Refused

If yes, then ask the following question:

Q: “What is your due date?” (use “X” for missing numbers)

__/__/____ (example: 01/31/2002, or 01/XX/2002) (Month) (Day) (Year)

3.7 HIV/AIDS Status

Rationale: To count the number of persons who have been diagnosed with AIDS or have tested positive for HIV.

Data Collection Methods: Interview or self-administered form.

When Data are Collected: Upon program entry or as soon as possible thereafter. Needed to complete Annual Progress Reports for certain HUD McKinney-Vento Act programs.

Subjects: All adults served.

Recommended Questions and APR-Required Response Categories:

Q: “Have you been diagnosed with AIDS or have you tested positive for HIV?”

0—No

1—Yes

88—Don't know

99—Refused

Special Issue: It is only appropriate to ask these questions if the program is prepared to help persons, in a confidential manner, in order to assess the need for service and/or for programmatic reporting purposes. This assessment process should result in enhanced provision and coordination of both specific HIV-related services and/or other general services addressing a client's needs. As in other areas involving sensitive client information, these questions should be asked and recorded when a program has adequate data confidentiality protections, including adequate training of staff, to ensure that HIV-related information on this person, such as their HIV status or their participation in related care, cannot be learned by anyone whom they themselves do not voluntarily provide or give permission to have this information. For more information on security and confidentiality, see Part 4 of this notice.

3.8 Behavioral Health Status

Rationale: To count the number of persons served with substance abuse and mental illness problems, and to assess the need for treatment.

Data Collection Methods: Interview or self-administered form.

When Data are Collected: Upon program entry or as soon as possible thereafter. Needed to complete Annual Progress Reports for certain HUD McKinney-Vento Act programs.

Subjects: All adults served.

Recommended Questions and APR-Required Response Categories:

Q: “Have you ever been in a residential, day, or outpatient treatment program (detox) or hospitalized for the treatment of alcoholism?”

0—No

1—Yes

88—Don't know

99—Refused

Q: “Do you feel that you have a problem with alcohol?”

0—No

1—Yes

88—Don't know

99—Refused

Q: “Have you ever been in a residential, day, or outpatient treatment program (detox) or hospitalized for treatment of drug dependency?”

0—No

1—Yes

88—Don't know

99—Refused

Q: “Do you feel that you have a problem with drugs?”

0—No

1—Yes

88—Don't know

99—Refused

Q: “Have you ever been treated or hospitalized for a psychiatric problem?”

0—No

1—Yes

88—Don't know

99—Refused

Q: “Do you feel that you have any current psychiatric or emotional problem(s) such as serious depression, serious anxiety, hallucinations, violent behavior, thoughts of suicide?”

0—No

1—Yes

88—Don't know

99—Refused

3.9 Domestic Violence

Rationale: Ascertaining whether a person is a victim of domestic violence is necessary to provide the person with the appropriate services to prevent further abuse and to treat the physical and psychological injuries from prior abuse. Also, ascertaining that a person may be experiencing domestic violence may be important for the safety of program staff and other clients. At the aggregate level, knowing the size of the homeless population that are victims of domestic violence can provide information needed for determining the resources needed to address the problem in this population.

Data Collection Method: Interview or self-administered form.

When Data are Collected: Upon initial program entry or as soon as possible thereafter or during assessment phase. Needed to complete Annual Progress Reports for certain HUD McKinney-Vento Act programs.

Subjects: All adults, except those who are entering domestic violence shelters.

Recommended Questions and APR-Required Response Categories:

Q: “Have you experienced domestic or intimate partner violence?”

0—No

1—Yes

88—Don't know

99—Refused

If yes, ask the following question:

Q: “How long ago did you have this experience?”

1—within the past three months

2—three to six months ago

3—from six to twelve months ago

4—more than a year ago

88—Don't know

99—Refused

Special Issues: First, it is only appropriate to ask these questions if the program is prepared to help the person, either by directly providing necessary support services or providing a referral to a program that can provide these services. Second, these questions are screening questions for identifying potential victims of domestic violence. Local programs have to decide what additional information is needed to assess the appropriate course of treatment or referral. Third, it is paramount that collecting information on domestic violence does not put the person at risk of suffering further abuse. Thus, these questions should only be asked and recorded when a program has adequate data confidentiality protections to ensure that this person or their location cannot be learned by anyone whom they themselves do not voluntarily provide or give permission to have this information. For more information on security and confidentiality, see Part 4 of this notice.

3.10 Education

Rationale: To assess the program participant's readiness for employment and need for education or employment services. It can also serve as an important outcome measure.

Data Collection Methods: Interview or self-administered form.

When Data are Collected: Upon initial program entry or as soon as possible thereafter, program exit, and during periodic follow-up.

Subjects: All adults served.

Recommended Question and Response Categories:

Q: “Are you in school now, or working on any degree or certificate?”

1—Yes

0—No

88—Don't know

98—Not applicable

99—Refused

Q: “Have you received any vocational training or apprenticeship certificates?”

1—Yes

0—No

88—Don't know

98—Not applicable

99—Refused

Q: “What is the highest level of school that you have completed?”

0—No schooling completed

1—Nursery school to 4th grade

2—5th grade or 6th grade

3—7th grade or 8th grade

4—9th grade

5—10th grade

6—11th grade

7—12th grade, No diploma

8—High school diploma

9—GED

10—More than twelve years

88—Don't know

99—Refused

If client has received a high school diploma or GED, ask the following questions:

Q: “Have you received any of the following degrees?”

[Ask about each degree until the client answers “no.”] Code each response as: 0—No; 1—Yes; 88—Don't know; 98—Not applicable; 99—Refused]

a—Bachelors

b—Masters

c—PhD

d—Other graduate degree

3.11 Employment

Rationale: To assess the program participant's employment status. This can serve as an important outcome measure.

Data Collection Methods: Interview or self-administered form.

When Data are Collected: Upon initial program entry or as soon as possible thereafter, program exit, and during periodic follow-up. Needed to complete Annual Progress Reports for certain HUD McKinney-Vento Act programs.

Subjects: All adults served

Recommended Questions and APR-Required Response Categories:

Q: “Are you currently employed?”

1—Yes

0—No

88—Don't know

99—Refused

If yes, ask the following questions:

Q: “How many hours did you work last week?”

___ hours of work last week

88—Don't know

99—Refused

Q: “Was this permanent, temporary, or seasonal work?”

1—Permanent

2—Temporary

3—Seasonal

88—Don't know

99—Refused

If client reports that he/she is not working, ask the following question:

Q: “Are you currently looking for work?”

1—Yes

0—No

2—Disabled

3—Retired

88—Don't know

99—Refused

Special Issues: Programs may choose to ask additional information about benefits received through employment.

3.12 Veterans

Rationale: To collect a more detailed profile of the homeless veteran's experience and to determine eligibility for Department of Veterans Affairs programs and benefits. These questions were developed in consultation with the Department of Veterans Affairs.

Data Collection Methods: Interview or self-administered form.

When Data are Collected: Upon program entry or as soon as possible thereafter.

Subjects: All persons who answered “Yes” to Veterans Status data element.

Recommended Question and Response Categories:

Q: “In which military service eras did you serve (choose all that apply)?”

[Ask each. Code each response as: 1—Yes; 0—No; 88—Don't know; 99—Refused]

a. World War I (April 1917—November 1918)

b. Between WWI and WWII (December 1918—August 1940)

c. World War II (September 1940—July 1947)

d. Between WWII and Korean War (August 1947—May 1950)

e. Korean War (June 1950—January 1955)

f. Between Korean and Vietnam War (February 1955—July 1964)

g. Vietnam Era (August 1964—April 1975)

h. Post Vietnam (May 1975—July 1991)

i. Persian Gulf Era (August 1991—Present)

Q: “How many months did you serve on active duty in the military?”

___ months

Q: “Did you serve in a war zone?”

1—Yes

0—No

88—Don't know

99—Refused

If served in a war zone, then ask:

Q: “What war zone(s) (choose all that apply)?”

[Ask each. Code each response as: 1—Yes; 0—No; 88—Don't know; 99—Refused]

a. Europe

b. North Africa

c. Vietnam

d. Laos and Cambodia

e. South China Sea

f. China, Burma, India

g. Korea

h. South Pacific

i. Persian Gulf

j. Other

Q: “What was the number of months served in a war zone?”

___ months

Q: “Did you ever receive hostile or friendly fire in a war zone?”

1—Yes

0—No

88—Don't know

99—Refused

Q: “What branch of the military did you serve in?”

1—Army

2—Air Force

3—Navy

4—Marines

5—Other

88—Don't know

99—Refused

Q: “What type of discharge did you receive?”

1—Honorable

2—General

3—Medical

4—Bad Conduct

5—Dishonorable

6—Other

88—Don't know

99—Refused

3.13 Services Received

Rationale: To determine the services provided during a program stay and their outcomes. Some funders may want information on service receipt as a performance measure, and service receipt may also be useful to CoCs to identify service gaps.

Data Collection Methods: Recorded by staff.

When Data are Collected: At or immediately after an assessment interview, at appropriate points during the program stay, and at program exit. Needed to complete Annual Progress Reports for certain HUD McKinney-Vento Act programs.

Subjects: All adults and children served.

APR-Required Response Categories:

For each service encounter, the following information should be recorded:

1. Date of Service

__/__/____ (example: 01/31/2002)(Month) (Day) (Year)

2. Encounter Type

1—Referral

2—Service Provided

3. Type of Service Provided

Use service codes from: A Taxonomy of Human Services: A Conceptual Framework with Standardized Terminology and Definitions for the Field, 1994.

Special Issues: The Taxonomy is a classification system for human services that has been adopted by information and referral programs, libraries, crisis lines, and other programs throughout the United States. It features a five-level hierarchical structure that contains 4,300 terms that are organized into 10 basic service categories and a separate target group section. The Taxonomy provides a common language for human services, ensuring that people have common terminology for naming services, agreements regarding definitions for what a service involves, and a common way of organizing service concepts. The taxonomy is co-published by the Alliance of Information and Referral Systems (AIRS) and INFO LINE of Los Angeles. For more information visit http://www.airs.org.

3.14 Destination

Rationale: Destination is an important outcome measure.

Data Collection Method: Interview or self-administered form.

When Data Are Collected: At program exit. Needed to complete Annual Progress Reports for certain HUD McKinney-Vento Act programs.

Subjects: All adults and children served by the program.

Recommended Questions and APR-Required Response Categories:

Q: “After you leave this program, where will you be living?”

1—Emergency shelter

2—Transitional housing for homeless persons

3—Permanent housing for formerly homeless persons

4—Psychiatric facility

5—Substance abuse treatment facility

6—Hospital

7—Jail

8—Prison

9—Hotel or motel

10—Foster care home

11—Own room, apartment, or house

12—Living with someone else (family and friends)

13—A car or other vehicle

14—An abandoned building

15—At a transportation site (bus station, airport, subway station, etc.

16—Anywhere outside (streets, parks, campgrounds, cardboard boxes, etc.)

17—Other

88—Don't know

99—Refused

Q: “Is this move permanent (more than 90 days) or temporary?”

1—Permanent

2—Temporary

88—Don't know

99—Refused

Q: [For staff only]: Did your agency provide assistance for this move?

0—No

1—Yes

88—Don't know

Special Issues: Programs may choose to ask additional questions such as the reason for the client's departure, or whether upon leaving the program the client will be reuniting with other family members who have not been with them during the program stay.

3.15 Follow-Up After Program Exit

Rationale: Follow-up after program exit provides for important outcome measurements.

Data Collection Method: Interview or self-administered form.

When Data are Collected: Timing of follow-up is at the discretion of the local program. Needed to complete Annual Progress Reports for certain HUD McKinney-Vento Act programs.

Subjects: All adults served by the program.

Questions and Response Categories: Obtain follow-up information on six data elements previously described in this notice:

• 3.1 Income and Sources

• 3.2 Non-Cash Benefits

• 3.10 Education

• 3.11 Employment

The system should provide for changes in household composition at the time of the follow-up data collection—in particular, for dropping individuals from the household record or recording the addition of adults or children to the household. Changes in household composition can lead to changes in several of the required follow-up data elements, particularly a household's income and types of income sources.

Read names of members of household at exit and then ask:

Q: “Are they all living with you now?”

0—No

1—Yes

88—Don't know

98—Not applicable

99—Refused

If not all living with person, ask:

Q: “Who is not?” (list all separately)

(example: John David Doe, Jr.)

88—Don't know

99—Refused

Q: “Does anyone else live with you now?”

0—No

1—Yes

88—Don't know

99—Refused

If there are additional members, ask:

Q: “How many new additional adults?”

___

Q: “How many new additional children?”

___

Staff: For each time a follow-up interview occurs, when did the interview happen?

__/__/____(example: 01/31/2002) (Month) (Day) (Year)

88—Don't know

3.16 Children's Education

Rationale: To determine if homeless children and youth have the same access to free, public education, including public preschool education, that is provided to other children and youth. It can also serve as an important outcome measure. These questions were developed in consultation with the U.S. Department of Education.

Data Collection Methods: Interview or observations of program staff.

When Data are Collected: Upon initial program entry or as soon as possible thereafter, program exit, and during periodic follow-up.

Subjects: All children between 5 and 17 years of age.

Question and Response Categories:

Q: “Is [name of child] currently enrolled in school?”

1—Yes

0—No

88—Don't know

98—Not applicable

99—Refused

If child is currently enrolled in school, ask:

Q: “What is the name of the child's school(s)?”

_____

88—Don't know

98—Not applicable

99—Refused

Q: “What type of school is it? Is it a public or private school?'

1—Public school

2—Parochial or other private school

88—Don't know

98—Not applicable

99—Refused

If child is currently not enrolled in school, ask:

Q: “When was [name of child] last enrolled in school?” (use “X” for missing numbers)

__/__/____(example: 01/31/2002, or 01/XX/2002) (Month) (Day) (Year)

88—Don't know

98—Not applicable

99—Refused

If child is currently not enrolled in school, ask:

Q: “I'm going to read a list of problems that you may have had getting your child into a school. Please tell me if you have experienced any of these problems for [name of child].”

[Ask each. Code each response as: 0—No; 1—Yes; 88—Don't know; 98—Not applicable; 99—Refused]

a. Residency requirements

b. Availability of school records

c. Birth certificates

d. Legal guardianship requirements

e. Transportation

f. Lack of available preschool programs

g. Immunization requirements

h. Physical examination records

i. Other

Special Issues: If only the month and year of the last enrollment date is known, the HMIS application should record the day as “01.” One date-format field for last enrollment date should be created by the HMIS application.

Programs may choose to obtain additional information related to children's education, such as the number of school days missed over a specific period of time and the barriers to school attendance.

3.17 Other Children's Questions

Child's Physical Disability

Q: “Do you consider [name of child] to be physically disabled?”

0—No

1—Yes

88—Don't know

99—Refused

Child's Developmental Disability

Q: “Has [name of child] ever received benefits or services (such as an income supplement or special education classes) for a developmental disability?”

0—No

1—Yes

88—Don't know

99—Refused

Child's General Health Status

Q: “Compared to other children [name of child's] age, would you say [name of child's] health is excellent, very good, good, fair, or poor?”

1—Excellent

2—Very Good

3—Good

4—Fair

5—Poor

88—Don't know

99—Refused

Services Received

Record all services received by children, including the date and type of service (see 3.13 above).

Destination

Upon leaving the program, the following question should be asked about each child who has been with the adult client in the program.

Q: “Will [name of child] be staying with you?”

0—No

1—Yes

88—Don't know

98—Not applicable

99—Refused

If child will not be staying with the person, then ask:

Q: “In what kind of place will [name of child] be staying?”

1—Residence of other parent

2—Residence of friends or family (excluding other parent)

3—Foster care home

4—Child care residential institution

5—Runaway facility

6—Substance abuse treatment facility

7—Psychiatric facility

8—Juvenile detention center

9—Hospital

10—Anywhere outside (streets, parks, campgrounds, cardboard boxes, etc.)

11—Other

Summary of Program—Level Data Elements
Data standards | Subjects | Required for APR? | Data entry or computer-generated
Income and Sources | Adults and Children | Yes | Data Entry.
Non-Cash Benefits | Adults and Children | Yes | Data Entry.
Physical Disability | Adults and Children | Yes | Data Entry.
Developmental Disability | Adults and Children | Yes | Data Entry.
General Health Status | Adults and Children | No | Data Entry.
Pregnancy Status | All Adult Females | No | Data Entry.
HIV/AIDS Status | Adults | Yes | Data Entry.
Behavioral Health Status | Adults | Yes | Data Entry.
Domestic Violence | Adults | Yes | Data Entry.
Education | Adults | No | Data Entry.
Employment | Adults | Yes | Data Entry.
Veterans | Adults | No | Data Entry.
Services Received | Adults and Children | Yes | Data Entry.
Destination | Adults and Children | Yes | Data Entry.
Follow-up After Program Exit | Adults and Children | Yes | Data Entry.
Children's Education | Children | No | Data Entry.
Other Children's Questions | Children | No | Data Entry.

4. Standards for Data Confidentiality and Security

This section describes standards for the security of data collected and stored in HMIS at a local program or at a central storage facility, and the rights of individuals who are participating in the HMIS to have personal information kept secure. The intent of this section is to ensure the privacy and confidentiality of information collected by HMIS, while allowing for the use of data as needed by homeless assistance programs, CoCs and researchers. The information contained in this section of the notice is based upon common practice and standards within the information technology community, as well as in large measure upon the HIPAA (Health Insurance Portability and Accountability Act of 1996) standards for securing and protecting private medical information.

This section describes the minimum standards required by federal law. State and local laws may require confidentiality and security standards beyond those described in this notice. Local CoCs may also develop additional protocols or policies to further ensure the privacy and confidentiality of information collected through HMIS.

4.1 Protected Personal Information

This section identifies specific types of information that are considered protected personal information.

Any information that can be used to identify a particular individual is protected personal information. An HMIS user for these purposes is defined as program staff (or trained volunteers) and CoC system administrators who use the HMIS. A developer is defined for these purposes as both the individuals and organization responsible for developing the HMIS and any functionality that is built into HMIS. HMIS users and developers should consider the following to be protected personal information of an individual and his or her relatives, employers, or household members:

• Names.

• All geographic subdivisions smaller than a state, including street address, city, county, precinct, zip code, and their equivalent geocodes.

• All elements of dates (except year) directly related to an individual, including birth date, admission date, discharge date, and date of death.

• Telephone numbers.

• Social Security numbers.

• Medical record numbers.

• Vehicle identifiers and serial numbers, including license plate numbers.

• Device identifiers and serial numbers.

• Any other unique identifying number, characteristic, or code.

The HMIS user or developer must not use any other data element to identify an individual. Any other data element that can be used to identify an individual is considered protected personal information.

4.2 Securing HMIS and Data

This section describes the standards for system and application security.

System Security

Applicability. These system security provisions apply to the systems where the HMIS application is installed (networks, desktops, laptops, mini-computers, mainframes and servers).

User authentication. HMIS workstations and server shall be secured with, at a minimum, a user authentication system consisting of a username and a password. Passwords shall be at least eight characters long and meet industry standard complexity requirements, including, but not limited to, the use of at least one of each of the following kinds of characters in the passwords: Upper and lower-case letters, and numbers and symbols. Passwords shall not be, or include, the username, the HMIS name, or the HMIS vendor's name. In addition, passwords should not consist entirely of any word found in the common dictionary or any of the above spelled backwards. The use of default passwords on initial entry into the HMIS application is allowed so long as the application requires that the default password be changed on first use.

Written information specifically pertaining to user access (e.g., username and password) shall not be stored or displayed in any publicly accessible location.

Virus protection. HMIS workstations and server shall be protected from viruses by commercially available virus protection software. Virus protection must include automated scanning of files as they are accessed by users on the system where the HMIS application is housed.

Firewalls. HMIS workstations and server shall be protected from malicious intrusion behind a secure firewall.

Public access. HMIS data shall not be housed on computers with public access to any part of the computer through the Internet, modems, bulletin boards, public kiosks, or similar arenas. HMIS that use such public forums for data collection or reporting must be secured to allow only connections from previously approved computers and systems through Public Key Infrastructure (PKI) certificates, extranets that limit access based on the Internet Provider (IP) address, or similar means. Further information on these tools can be found in the HMIS Consumer Guide and the HMIS Implementation Guide, both available on HUD's website.

Physical Access to Systems With Access to HMIS Data

Computers that are used to collect and store HMIS data shall be staffed at all times when in public areas. When workstations are not in use and staff are not present, steps should be taken to ensure that the computers and data are secure and not publicly accessible. These steps should minimally include: Logging off the data entry system, shutting down the computer, and storing the computer and data in a locked room.

Disaster Protection and Recovery

HMIS data shall be copied on a regular basis to another medium (e.g., tape) and stored in a secure off site location where these same standards would apply. Ideally, off site storage shall include fire and water protection for the storage medium.

HMIS that store data in a central server, mini-computer, or mainframe shall store the central hardware in a secure room with appropriate temperature control and fire suppression systems.

Surge suppressors shall protect physical systems for collecting and storing the HMIS data.

Application Security

Applicability. These application security provisions apply to how the data are secured by the HMIS application itself, during entry, storage and review, or any other HMIS function.

User authentication. HMIS workstations and server shall be secured with, at a minimum, a user authentication system consisting of a username and a password. Passwords shall be at least eight characters long and meet industry standard complexity requirements, including, but not limited to, the use of at least one of each of the following kinds of characters in the passwords: Upper and lower-case letters, and numbers and symbols. Passwords shall not be, or include, the username, the HMIS name, or the HMIS vendor's name. In addition, passwords should not consist entirely of any word found in the common dictionary or any of the above spelled backwards. The use of default passwords on initial entry into the HMIS application is allowed so long as the application requires that the default password be changed on first use.

Written information specifically pertaining to user access (e.g., username and password) shall not be stored or displayed in any publicly accessible location.

Electronic data transmission. MIS data that are electronically transmitted over publicly accessible networks or phone lines shall be encrypted to at least 128-bit encryption. Unencrypted data may be transmitted over secure direct connections between the two systems. A secure direct connection is one that can only be accessed by users who have been authenticated on at least one of the systems involved and does not utilize any tertiary systems to transmit the data.

Electronic data storage. HMIS data shall be stored in a binary, not text, format. Protected personal information shall be stored in an encrypted format using at least a 128-bit key. This encryption must be done within the HMIS so that the data are not readable from outside the local HMIS application.

Hard Copy Security

Applicability. This section is intended to provide standards for securing any hard copy that is either generated by or for HMIS, such as reports, data entry forms, and signed consents.

Any paper or other hard copy generated by or for HMIS that contain individually identifiable information as defined in this standard must be under constant supervision by an HMIS user or developer when in a public area. When staff are not present, the information shall be secured in areas that are not publicly accessible.

Written information specifically pertaining to user access (e.g., username and password) shall not be stored or displayed in any publicly accessible location.

4.3 Privacy of Protected Personal Information

An HMIS user or developer may not use or disclose protected personal information except to the individual whose information it is or as permitted or required by this standard or by law.

Uses and Disclosures of Protected Personal Information Assumed by Entry Into the HMIS

By providing data to HMIS user or developer for entry into HMIS, an individual provides oral assent to the uses described in the following section. Such assent should only be assumed if the individual has been advised how he or she could benefit by providing the requested information, how the data will be protected, and how the data will be used.

An HMIS user or developer may use or disclose protected personal information without the written consent of the individual in situations specified in this notice, subject to the notice's applicable requirements. When the HMIS user or developer is required to inform the individual of, or when the individual may agree to a permitted use or disclosure, oral announcement is sufficient.

Uses and disclosures for administrative purposes. A CoC system administrator or developer may use or disclose protected personal information to program staff within the same program so they may perform necessary administrative functions (e.g., ensure data integrity and create an unduplicated count of homeless persons). For the purpose of creating an unduplicated count within a CoC in which data are accessible across programs, the CoC may decide that oral consent is not sufficient. This notice neither requires nor prohibits the sharing of client information among programs in the CoC, but does require that local policy regarding information sharing be established and that either client notification or written consent be provided for in the event that information is shared.

Uses and disclosures for academic research purposes. An HMIS user or developer may use or disclose protected personal information to individuals performing academic research who have a formal relationship with a local program or CoC. Such research would be conducted either by an individual employed by the program, so long as the research has been approved by a program administrator, or by an outside institution that has entered into a research agreement with the program or CoC. Such data are to be used within the boundaries set by an approved research agreement. Such approvals do not substitute for Institutional Review Board (IRB) approvals, and researchers should seek appropriate IRB approvals.

Use for creating de-identified information. An HMIS user or developer may use protected personal information to create information that is not individually identifiable or disclose protected personal information to a third party to be used only for such purpose, whether or not the de-identified information is to be used by the HMIS user or developer.

Uses and disclosures required by law. An HMIS user or developer may use or disclose protected personal information to the extent that law requires such use or disclosure and the use or disclosure complies with and is limited to the relevant requirements of such law.

Disclosures about victims of abuse, neglect, or domestic violence. Consistent with applicable law and standards of ethical conduct, an HMIS user or developer may disclose protected personal information about an individual who is reasonably believed to be a victim of abuse, neglect, or domestic violence to a government authority (including a social service or protective services agency) authorized by law to receive reports of such abuse, neglect, or domestic violence. Disclosures to other entities are permissible only if the individual agrees to such disclosure.

Uses and disclosures to avert a serious threat to health or safety. An HMIS user or developer may, consistent with applicable law and standards of ethical conduct, use or disclose protected personal information if the HMIS user or developer, in good faith, believes the use or disclosure is necessary to prevent or lessen a serious and imminent threat to the health or safety of a person or the public and is made to a person or persons reasonably able to prevent or lessen the threat, including the target of the threat.

Uses and disclosures about decedents.

• Coroners and medical examiners. An HMIS user or developer may disclose protected personal information to a coroner or medical examiner for the purpose of identifying a deceased person, determining a cause of death, or other duties as authorized by law.

• Funeral directors. An HMIS user or developer may disclose protected personal information to funeral directors, consistent with applicable law, as necessary to carry out their duties with respect to a decedent. If necessary for funeral directors to carry out their duties, the HMIS user or developer may disclose the protected personal information prior to, and in reasonable anticipation of, the individual's death.

Disclosures for law enforcement purposes. An HMIS user or developer may, consistent with applicable law and standards of ethical conduct, disclose protected personal information for a law enforcement purpose to a law enforcement official. Such disclosure should meet only the minimum standards necessary for the law enforcement official's immediate purpose and not disclose information about other individuals within the program or CoC not specifically required by that purpose. A court order or search warrant may be required for the disclosure of information about an individual in an HMIS. Such orders are restricted only to the individual(s) identified in the court order.

Disclosures for national security and intelligence activities. An HMIS user or developer may disclose protected personal information to authorized federal officials for the conduct of lawful intelligence, counter-intelligence, and other national security activities authorized by the National Security Act (50 U.S.C. 401, et seq.) and implementing authority (e.g., Executive Order 12333).

Disclosures for protective services for the President and others. An HMIS user or developer may disclose protected personal information to authorized federal officials for the provision of protective services to the President or other persons authorized by 18 U.S.C. 3056, or to foreign heads of state or other persons authorized by 22 U.S.C. 2709(a)(3), or for the conduct of investigations authorized by 18 U.S.C. 871 and 879.

Uses and Disclosures of De-Identified Protected Personal Information

Information that meets the standard and implementation specifications for de-identification or has been aggregated is considered not to be individually identifiable information and, therefore, is not protected personal information. In order to meet this standard, none of the information listed in this notice as being part of the protected personal information may be included in the de-identified data. The restrictions concerning disclosure in this notice do not apply to information that has been de-identified in accordance with the applicable requirements, provided that there is no disclosure of a code or other means of record identification designed to enable coded or otherwise de-identified information to be re-identified. If de-identified information is re-identified, an HMIS user or developer may use or disclose such protected personal information only as permitted or required by this notice.

Re-Identification

An HMIS user or developer may assign a code or other means of record identification to allow information de-identified under this notice to be re-identified by the HMIS user or developer, provided that: The code or other means of record identification is not derived from or related to information about the individual and is not otherwise capable of being translated so as to identify the individual; and the HMIS user or developer does not use or disclose the code or other means of record identification for any other purpose, and does not disclose the mechanism for re-identification.

Consent for Other Uses or Disclosures of Private Information

An HMIS user or developer must obtain the individual's consent prior to using or disclosing protected personal information. A consent form must:

• Be stated in plain language;

• Include full disclosure of all the ways in which otherwise protected personal information might be used;

• State that the terms of its notice may change and describe how the individual may obtain a revised notice;

• State that the HMIS user or developer is not required to agree to additional restrictions that may be requested by the individual;

• Indicate that if the HMIS user or developer agrees to a requested restriction, the restriction is binding on the HMIS user or developer;

• State that the individual has the right to revoke the consent in writing, except to the extent that the HMIS user or developer has taken action in reliance thereon; and,

• Be signed and dated by the individual.

1.1 Notice of Privacy Practices for Protected Personal Information

An individual has a right to adequate notice of the uses and disclosures of protected personal information that may be made by the HMIS user or developer, and of the individual's rights and the HMIS user or developer's legal duties with respect to protected personal information.

The notice should be prominently displayed in the program offices where intake occurs.

The HMIS user or developer must promptly revise and distribute its notice whenever there is a substantive change to the uses or disclosures, the individual's rights, the HMIS user or developer's legal duties, or other privacy practices stated in the notice. Except when required by law, a substantive change to any term of the notice may not be implemented before the effective date of the notice in which a substantive change is reflected.

An HMIS user or developer must maintain documentation of compliance with the notice requirements by retaining copies of the notices issued by the HMIS user or developer.

The individual has the right to obtain a paper copy of the notice from the HMIS user or developer upon request.

An inmate does not have a right to notice, and the requirements of this notice do not apply to a correctional institution that is an HMIS user.

Content of Notice

The HMIS user or developer must provide a notice that is written in plain language and that contains the elements required by this section. These elements are not exclusive, and either oral or written notice may inform the individual of the uses of information that may help provide service or otherwise benefit the individual.

• The following statement as a header or otherwise must be prominently displayed: “THIS NOTICE DESCRIBES HOW INFORMATION ABOUT YOU MAY BE USED AND DISCLOSED AND HOW YOU CAN GET ACCESS TO THIS INFORMATION. PLEASE REVIEW IT CAREFULLY.”

• A description of each of the purposes for which the HMIS user or developer is permitted or required by this notice to use or disclose protected personal information without the individual's written consent or authorization. These include administrative, programmatic, and academic research purposes.

• If a use or disclosure is prohibited or materially limited by other applicable law, the description of such use or disclosure must reflect the more stringent law.

• A statement that other uses and disclosures will be made only with the individual's written authorization and that the individual may revoke such authorization.

• A statement of the individual's rights with respect to protected personal information and a brief description of how the individual may exercise these rights.

• A statement that the HMIS user or developer is required by law to maintain the privacy of protected personal information and to provide individuals with notice of its legal duties and privacy practices with respect to protected personal information.

• A statement that the HMIS user or developer is required to abide by the terms of the notice currently in effect.

• A statement that reserves the right to change the terms of this notice and to make the new notice provisions effective for all protected personal information that it maintains. The statement must also describe how it will attempt to provide individuals with a revised notice.

• A statement that individuals may complain to the HMIS user or developer if they believe their privacy rights have been violated.

• A brief description of how the individual may file a complaint with the HMIS user or developer.

• A statement that the individual will not be retaliated against for filing a complaint.

• The name, or title, and telephone number of a person or office to contact for further information.

• The date on which the notice is first in effect, which may not be earlier than the date on which the notice is printed or otherwise published.

4.5 Rights To Request Privacy Protection for Protected Personal Information

Access of Individuals to Protected Personal Information

An individual has a right of access to inspect and obtain a copy of his/her own protected personal information in a record set, for as long as the protected personal information is kept, except for information compiled in reasonable anticipation of, or for use in, a civil, criminal, or administrative action or proceeding. The individual also has the right to correct protected personal information (such as name and date of birth) when that information is inaccurate.

An HMIS user or developer must permit individuals to request and must accommodate reasonable requests by individuals to receive communications of protected personal information from the HMIS user or developer by alternative means or at alternative locations.

Accounting of Disclosures of Protected Personal Information

An individual has a right to receive an accounting of disclosures of protected personal information made by an HMIS user or developer in the six years prior to the date on which the accounting is requested, except for disclosures for national security or intelligence purposes or to correctional institutions or law enforcement officials.

The HMIS user or developer must temporarily suspend an individual's right to receive an accounting of disclosures to a health oversight agency or law enforcement official, for the time specified by such agency or official, if the agency or official provides the HMIS user or developer with a written statement confirming that such an accounting would impede the agency's activities. The notification should specify the time for which such a suspension is required.

4.6 Administrative Requirements

Local Protocol

A CoC system administrator is required to have a written policy governing its use and disclosure of information collected by HMIS. This policy should address the specifics of how use and disclosure decisions will be made and who will make them and with what documentation, as well as the specifics of how the data security standard will be met. These decisions should include who will have access to HMIS data and the level of access granted to each user. The policy should also address grievance procedures and penalties for non-compliance. Examples of such policies are discussed in the HMIS Implementation Guide available on HUD's Web site.

To test system and application security, a CoC system administrator is encouraged to periodically conduct penetration testing, a procedure which is also described in the Implementation Guide.

Local Policies

A CoC system administrator or developer who has instituted policies in addition to those listed in this notice must maintain a written copy detailing any and all additions and specifications beyond the content of this notice. Such written policy must be distributed to all staff and included as an additional notice for individuals affected.

Safeguards

A CoC system administrator or developer must have in place appropriate administrative, technical, and physical safeguards to protect the privacy of protected personal information including, but not limited to, those described in this notice and required by law.

Training

A CoC system administrator user or developer must provide orientation and ongoing training to all of its staff on the policies and procedures relating to protected personal information sufficient for staff to carry out their functions.

5. Technical Standards

This section presents the technical standards that will be required for HMIS applications and for the CoCs responsible for storing HMIS data. Except as otherwise provided, these standards do not specify or recommend any particular operating system, development environment, networking environment, database, hardware, or other aspect of the HMIS application. This part of the notice is primarily directed to HMIS developers and CoC system administrators.

5.1 Required HMIS Capabilities

Automatic Generation of Identification Numbers and Information

Based on the data collected through program staff interviews or self-administered forms, the HMIS application must be capable of automatically generating data for each record. This capability includes the automatic generation of:

(1) Unique personal identification numbers (PINs) for persons who have not been previously served within the CoC, and re-assignment of PINs for persons who have been served previously within the CoC;

(2) Household identification numbers for persons who have been identified as members of a household that participated in the same program event;

(3) Program identification information that is uniquely associated with each program within a CoC and is assigned to every program event; and,

(4) A program event number that distinguishes each episode of program utilization.

Personal Identification Numbers (PINs)

PIN is a number randomly and automatically generated by the HMIS application. All records associated with the same person should be assigned the same PIN. The PIN is used to produce an unduplicated count of all persons within a CoC.

HMIS must be capable of searching the entire CoC database (whether or not data are shared across programs within a CoC) to determine if clients have been previously served. The search must involve the matching of client records using personal identifier fields (e.g., Name, Social Security Number, Date of Birth, and Gender) to retrieve a record(s) with identical or similar values in each of these fields.

Household Identification Numbers

HMIS must generate the same household identification number for every person designated by program staff as being together for an episode of service (i.e., program event). The household identification numbers assigned will be maintained in each person's permanent record and will be unique for each program event experienced by the client.

As discussed in Parts 2 and 3 of this notice, when a group of persons apply for services together (as a household or family), information is first asked of the household head who is applying for services and then information is requested from him/her about any children under 18 years of age who are applying for services with the household head. The children do not need to be present at the time the household head applies for services. The same household identification number is assigned to the adult head of household and any children who have been identified as applying for services with the head. If there are other adult members of the household (over 18 years of age) who are reported to be part of this household, a separate intake is conducted. As part of this intake, this individual is assigned the same household identification number as the other household members.

Program Identification Information

Program identification information for every program offered in a CoC consists of the following four fields:

• Federal Information Processing System (FIPS) Code. To find the 10-digit FIPS code consisting of 2-digit state code, 3-digit county code, and 5-digit place code: (1) Go to website http://geonames.usgs.gov/fips55.html; (2) Click on “Search the FIPS55 Data Base”; (3) Click on state from “State Number Code” pull down menu (this also tells you 2-digit state code); (4) Type town or city name in “Fips55 Feature Name” box; and (5) Click on “Send Query”, and 3-digit county code and 5-digit place code will be shown.

• Facility Code (to be locally determined)

• Continuum of Care (CoC) Code (HUD-assigned)

• Program Type Code:

0—Not applicable

1—Street outreach

2—Emergency shelter (e.g., facility or vouchers)

3—Transitional housing

4—Permanent supportive housing

5—Homeless prevention (e.g., security deposit or one month's rent)

6—Services-only type of program

7—Other

The FIPS code, facility code, CoC code, and program type code may be separate fields in the HMIS application. There is no requirement to merge them into a single field.

For each client intake, staff are only required to enter the program type code. Programs may choose to provide more detailed response categories for the services-only type program response. However, staff must be able to collapse these detailed categories into a single service-only type category. A corresponding FIPS code, facility code, and CoC code should be automatically generated by the HMIS. Once program identification information has been created, the HMIS must ensure that the information is associated with every program event recorded within the CoC.

Program Event Numbers

The HMIS application should generate unique codes for every program event occurring within the CoC. This will enable the system to distinguish episodes of service that occur on the same date and within the same program (e.g., two counseling sessions conducted on the same day).

Missing Value Categories

Don't know, not applicable, and refused response categories specified for close-ended questions should appear on the same list as the valid responses. For open-ended questions (e.g., name or the name of the child's school), the HMIS application should include the don't know, not applicable, and refused response categories for each field in the data element (e.g., first name, last name, middle initial, and suffix).

Other Response Categories

Certain data elements may contain a response category labeled “other.” When a data element contains such an option, there should also be, within the same database table, a separate alphanumeric field where the other value may be entered by program staff. For instance, a coded field that accepts the values 0-Red, 1-Yellow, 9-Other should have an accompanying field that accepts open-ended answers such as tangerine, blue, or magenta. The analysis of such data will allow the standard to adapt to include codes for common answers to questions that may not have been anticipated within the current standard.

Data Export

Although a standard environment is not specified, any HMIS application must be capable of exporting any and all data collected into a comma-separated values text file using the following format:

• All fields in a given record are separated by a comma;

• All records within a given text file contain the same fields;

• Blank fields are signified by the comma ending the previous field (or the beginning of the line if the field is the first in the record) followed by a comma indicating the end of the empty field;

• Fields containing text information (as opposed to numeric) will be surrounded by double quotes whenever the field includes blank spaces, commas, or other symbols not part of the standard alphabet;

• The first line of the file shall be a list of the field names included in every record in the file; and

• The list of field names shall be in the same format described above.

5.2 Continuum of Care Requirements

Storage Requirements

The CoC must have or designate a central coordinating body that will be responsible for centralized collection and storage of HMIS data.

HMIS data must be collected to a central location at least once a year from all HMIS users within the CoC.

HMIS data must be stored at the central location for a minimum of seven years after the date of collection by the central coordinating body or designee of the CoC.

5.3 Anonymous Data Collection

An anonymous data record is a record that does not provide sufficient (or any) of the protected personal identifiers to uniquely identify the individual in the record. Certain types of service providers, especially those dealing with victims of domestic violence, occasionally use anonymous records to protect a client's privacy and safety. Some HMIS collect anonymous data and assign a system-generated ID to the individual for the purposes of tracking a client's history of services. Other HMIS simply accept anonymous data and do not attempt to associate previously collected data with the data from the current event.

This notice does not preclude the collection of anonymous data within HMIS. It is important to note, however, that there are several important shortcomings associated with the collection of anonymous data. Anonymous data are nearly impossible to be-duplicated at any level. Also, depending on the amount of data collected for the anonymous client, there may be little practical use for the data, except to count intakes within a particular program.

Dated: July 16, 2003.
William H. Eargle,
Deputy Assistant Secretary for Operations, Office of Community, Planning and Development.

[FR Doc. 03-18505 Filed 7-17-03; 2:52 pm]

BILLING CODE 4210-29-P